DEPARTMENT OF COMMERCE

National Oceanic and Atmospheric Administration

50 CFR Part 679

[Docket No. 230224-0053; RTID 0648-XC347]

Fisheries of the Exclusive Economic Zone Off Alaska; Gulf of Alaska; Final 2023 and 2024 Harvest Specifications for Groundfish

AGENCY: National Marine Fisheries Service (NMFS), National Oceanic and Atmospheric Administration (NOAA), Commerce.

ACTION: Final rule; harvest specifications and closures.

SUMMARY: NMFS announces final 2023 and 2024 harvest specifications, apportionments, and Pacific halibut prohibited species catch limits for the groundfish fishery of the Gulf of Alaska (GOA). This action is necessary to establish harvest limits for groundfish during the remainder of the 2023 and the start of the 2024 fishing years and to accomplish the goals and objectives of the Fishery Management Plan for Groundfish of the Gulf of Alaska (FMP). The 2023 harvest specifications supersede those previously set in the final 2022 and 2023 harvest specifications, and the 2024 harvest specifications will be superseded in early 2024 when the final 2024 and 2025 harvest specifications are published. The intended effect of this action is to conserve and manage the groundfish resources in the GOA in accordance with the Magnuson-Stevens Fishery Conservation and Management Act (Magnuson-Stevens Act).

DATES: Harvest specifications and closures are effective at 1200 hours, Alaska local time (A.l.t.), March 2, 2023, through 2400 hours, A.l.t., December 31, 2024.

ADDRESSES: Electronic copies of the Final Alaska Groundfish Harvest Specifications Environmental Impact Statement (EIS), Record of Decision (ROD), and the annual Supplementary Information Reports (SIRs) to the EIS prepared for this action are available from https://www.regulations.gov. The 2022 Stock Assessment and Fishery Evaluation (SAFE) report for the groundfish resources of the GOA, dated November 2022, and SAFE reports for previous years are available from the North Pacific Fishery Management Council (Council) at 1007 West Third Avenue, Suite 400, Anchorage, AK 99501, phone 907-271-2809, or from the Council's website at https://www.npfmc.org.

FOR FURTHER INFORMATION CONTACT: Obren Davis, 907-586-7228.

SUPPLEMENTARY INFORMATION: NMFS manages the GOA groundfish fisheries in the exclusive economic zone of the GOA under the FMP. The Council prepared the FMP under the authority of the Magnuson-Stevens Act (16 U.S.C. 1801 et seq.). Regulations governing U.S. fisheries and implementing the FMP appear at 50 CFR parts 600, 679, and 680.

The FMP and its implementing regulations require that NMFS, after consultation with the Council, specify the total allowable catch (TAC) for each target species, the sum of which must be within the optimum yield (OY) range of 116,000 to 800,000 metric tons (mt) (50 CFR 679.20(a)(1)(i)(B) and 679.20(a)(2)). Section 679.20(c)(1) further requires that NMFS publish and solicit public comment on proposed annual TACs and apportionments thereof, Pacific halibut prohibited species catch (PSC) limits, and seasonal allowances of pollock and Pacific cod. Upon consideration of public comment received under § 679.20(c)(1), NMFS must publish a notification of final harvest specifications for up to 2 fishing years as annual TACs and apportionments, Pacific halibut PSC limits, and seasonal allowances of pollock and Pacific cod, per § 679.20(c)(3)(ii). The final harvest specifications set forth in Tables 1 through 27 of this rule reflect the outcome of this process, as required at § 679.20(c).

The proposed 2023 and 2024 harvest specifications for groundfish of the GOA and Pacific halibut PSC limits were published in the Federal Register on December 2, 2022 (87 FR 74102). Comments were invited and accepted through January 3, 2023. NMFS did not receive any comments on the proposed harvest specifications. In December 2022, NMFS consulted with the Council regarding the 2023 and 2024 harvest specifications. After considering public comment at public meetings, as well as biological and socioeconomic data that were available at the Council's December 2022 meeting, NMFS is implementing the final 2023 and 2024 harvest specifications, as recommended by the Council. For 2023, the sum of the TAC amounts is 468,796 mt. For 2024, the sum of the TAC amounts is 476,537 mt.

Other Actions Affecting the 2023 and 2024 Harvest Specifications

Amendment 112 to the FMP: Sablefish Individual Fishing Quota (IFQ) Program Revisions

On November 23, 2022, NMFS published a proposed rule (87 FR 71559) to implement Amendment 112 to the FMP, which, if approved, would allow jig gear as an authorized fishing gear type in the GOA sablefish Individual Fishing Quota (IFQ) fisheries. The Council's intent in recommending Amendment 112 is to increase entry-level opportunities and increase flexibility for IFQ holders. This is because jig gear is a smaller investment than other gear types and does not require significant vessel retrofits as with other gear. Additionally, jig gear is already an authorized gear type for the harvest of halibut IFQ and this action would further align the authorized gear types in the halibut and sablefish IFQ fisheries. Additionally, the proposed rule includes a variety of other provisions, which, if approved, would revise regulations associated with requirements or exemptions for the use of collapsible pot gear. It would also revise regulatory specifications for gear marking, pot limits, and other pot use restrictions in the GOA. Further details are available in the proposed rule to implement Amendment 112. If the FMP amendment and its implementing regulations are approved by the Secretary of Commerce, the action is anticipated to be effective for the 2023 IFQ season.

Amendment 122 to the Bering Sea and Aleutian Islands FMP: Pacific Cod Cooperative Program

NMFS is developing a proposed rule to implement Amendment 122 to the FMP for Groundfish of the Bering Sea and Aleutian Islands Management Area (BSAI), which, if approved, would establish the Pacific Cod Trawl Cooperative Program (PCTC Program) to allocate BSAI Pacific cod harvest quota to qualifying groundfish License Limitation Program (LLP) license holders and qualifying processors. The PCTC Program would be a limited access privilege program (LAPP) for the harvest of Pacific cod in the BSAI trawl catcher vessel (CV) sector. One of the elements of the proposed PCTC Program is to revise the GOA groundfish sideboard limits and halibut PSC limits for LLP licenses that receive allocations of PCTC quota share. The Program would change the American Fisheries Act (AFA) non-exempt GOA groundfish sideboard and halibut PSC limits for all non-exempt AFA LLP licenses and CVs based on the GOA fishing activity of these vessels in the aggregate during the PCTC Program qualifying years. If approved by the Secretary of Commerce, Amendment 122 and its implementing regulations would affect the calculation and establishment of the groundfish sideboard limits and halibut PSC limits discussed in the subsequent American Fisheries Act (AFA) Catcher/Processor and Catcher Vessel Groundfish Harvest Limits and Non-Exempt AFA Catcher Vessel Halibut PSC Limits sections of this rule.

Acceptable Biological Catch (ABC) and TAC Specifications

In December 2022, the Council's Scientific and Statistical Committee (SSC), its Advisory Panel (AP), and the Council reviewed the most recent biological and harvest information about the condition of the GOA groundfish stocks. The Council's GOA Groundfish Plan Team (Plan Team) compiled and presented this information in the 2022 SAFE report for the GOA groundfish fisheries, dated November 2022 (see ADDRESSES). The SAFE report contains a review of the latest scientific analyses and estimates of each species' biomass and other biological parameters, as well as summaries of the available information on the GOA ecosystem and the economic condition of the groundfish fisheries off Alaska. From these data and analyses, the Plan Team recommends, and the SSC sets, an overfishing level (OFL) and ABC for each species and species group. The 2022 SAFE report was made available for public review during the public comment period for the proposed harvest specifications.

In previous years, the greatest changes from the proposed to the final harvest specifications have been based on recent NMFS stock surveys, which provide updated estimates of stock biomass and spatial distribution, and changes to the models used for producing stock assessments. At the November 2022 Plan Team meeting, NMFS scientists presented updated and new survey results, changes to stock assessment models, and accompanying stock assessment estimates for groundfish species and species groups that are included in the 2022 SAFE report per the stock assessment schedule found in the 2022 SAFE report introduction. The SSC reviewed this information at the December 2022 Council meeting. Changes from the proposed to the final 2023 and 2024 harvest specifications are discussed below.

The final 2023 and 2024 OFLs and ABCs are based on the best available biological information, including projected biomass trends, information on assumed distribution of stock biomass, and revised methods used to calculate stock biomass, and the final 2023 and 2024 TACs are based on the best available biological and socioeconomic information. The FMP specifies the formulas, or tiers, to be used to compute OFLs and ABCs. The formulas applicable to a particular stock or stock complex are determined by the level of reliable information available to fisheries scientists. This information is categorized into a successive series of six tiers to define OFL and ABC amounts, with Tier 1 representing the highest level of information quality available and Tier 6 representing the lowest level of information quality available. The Plan Team used the FMP tier structure to calculate OFL and ABC amounts for each groundfish species. The SSC adopted the final 2023 and 2024 OFLs and ABCs recommended by the Plan Team.

The Council adopted the SSC's OFLs and ABCs and the AP's TAC recommendations. The final TAC recommendations are based on the ABCs and are adjusted for other biological and socioeconomic considerations, including maintaining the sum of all TACs within the required OY range of 116,000 to 800,000 mt.

The Council recommended 2023 and 2024 TACs that are equal to ABCs for pollock in the Southeast Outside (SEO) District, sablefish, shallow-water flatfish in the Central GOA and the West Yakutat and SEO Districts, deep-water flatfish, rex sole, arrowtooth flounder in the Central GOA and the West Yakutat District, flathead sole in the Central GOA and the West Yakutat and SEO Districts, Pacific ocean perch (a rockfish species), northern rockfish, shortraker rockfish, dusky rockfish, rougheye and blackspotted rockfish, demersal shelf rockfish, thornyhead rockfish, “other rockfish” in the Western/Central GOA and West Yakutat District, big skate, longnose skate, other skates, sharks, and octopuses in the GOA. The Council recommended TACs for 2023 and 2024 that are less than the ABCs for pollock for the combined Western and Central GOA and West Yakutat District area, Pacific cod, shallow-water flatfish in the Western GOA, arrowtooth flounder in the Western GOA and the SEO District, flathead sole in the Western GOA, Atka mackerel, and “other rockfish” in the SEO District.

The combined Western, Central, and West Yakutat pollock TAC and the GOA Pacific cod TACs are set to accommodate the State of Alaska's (State's) guideline harvest levels (GHLs) so that the ABCs for pollock and Pacific cod are not exceeded. The Western GOA shallow-water flatfish, Western GOA arrowtooth flounder, and Western GOA flathead sole TACs are set to allow for increased harvest opportunities for these target species while conserving the halibut PSC limit for use in other, more fully utilized fisheries. Similarly, the SEO District arrowtooth flounder TAC is set lower than ABC to conserve halibut PSC limit for use in other fisheries or because there is limited commercial interest and participation in this fishery. The Atka mackerel TAC is set to accommodate incidental catch amounts in other fisheries. The “other rockfish” TAC in the SEO District is set to reduce the amount of discards of the species in that complex.

The final 2023 and 2024 harvest specifications approved by the Secretary of Commerce are unchanged from those recommended by the Council, and are consistent with the preferred harvest strategy alternative outlined in the FMP and EIS (see ADDRESSES).

NMFS finds that the Council's recommended OFLs, ABCs, and TACs are consistent with the biological condition of the groundfish stocks as described in the final 2022 SAFE report. NMFS also finds that the Council's recommendations for TACs are consistent with the biological condition of groundfish stocks as adjusted for other biological and socioeconomic considerations, including maintaining the sum of all TACs within the OY range. NMFS reviewed the Council's recommended TACs and apportionments, and NMFS approves these harvest specifications under 50 CFR 679.20(c)(3)(ii). The apportionment of TAC amounts among gear types and sectors, processing sectors, and seasons is discussed below.

Tables 1 and 2 list the final 2023 and 2024 OFLs, ABCs, TACs, and area apportionments of groundfish in the GOA. The 2023 harvest specifications set in this final action supersede the 2023 harvest specifications previously set in the final 2022 and 2023 harvest specifications (87 FR 11599, March 2, 2022). The 2024 harvest specifications will be superseded in early 2024 when the final 2024 and 2025 harvest specifications are published. Pursuant to this final action, the 2023 harvest specifications therefore will apply for the remainder of the current year (2023), while the 2024 harvest specifications are projected only for the following year (2024) and will be superseded in early 2024 by the final 2024 and 2025 harvest specifications. Because this final action (published in early 2023) will be superseded in early 2024 by the publication of the final 2024 and 2025 harvest specifications, it is projected that this final action will implement the harvest specifications for the GOA for approximately 1 year.

Specification and Apportionment of TAC Amounts

NMFS's apportionment of groundfish species is based on the distribution of biomass among the regulatory areas over which NMFS manages the species. Additional regulations govern the apportionment of pollock, Pacific cod, and sablefish and are described below.

The ABC for the pollock stock in the combined Western and Central Regulatory Areas and the West Yakutat (WYK) District of the Eastern Regulatory Area (the W/C/WYK) includes the amount for the GHL established by the State for the Prince William Sound (PWS) pollock fishery. The Plan Team, SSC, AP, and Council have recommended that the sum of all State waters and Federal waters pollock removals from the GOA not exceed ABC recommendations. For 2023 and 2024, the SSC recommended and the Council approved the W/C/WYK pollock ABC, including the amount to account for the State's PWS GHL. At the November 2022 Plan Team meeting, State fisheries managers recommended setting the PWS pollock GHL at 2.5 percent of the annual W/C/WYK pollock ABC. For 2023, this yields a PWS pollock GHL of 3,723 mt, an increase of 396 mt from the 2022 PWS pollock GHL of 3,327 mt. For 2024, the PWS pollock GHL is 4,027 mt, an increase of 700 mt from the 2022 PWS pollock GHL of 3,327 mt. After the GHL reductions, the 2023 and 2024 pollock ABCs for the combined W/C/WYK areas are then apportioned between four statistical areas (Areas 610, 620, 630, and 640) as both ABCs and TACs, as described below and detailed in Tables 1 and 2. The total ABCs and TACs for the four statistical areas, plus the State PWS GHL, do not exceed the combined W/C/WYK ABC.

Apportionments of pollock to the W/C/WYK areas are considered to be “apportionments of annual catch limits (ACLs)” rather than “ABCs.” This more accurately reflects that such apportionments address management, rather than biological or conservation, concerns. In addition, apportionments of the ACL in this manner allow NMFS to balance any transfer of TAC among Areas 610, 620, and 630 pursuant to § 679.20(a)(5)(iv)(B) to ensure that the combined W/C/WYK ACL, ABC, and TAC are not exceeded.

NMFS establishes pollock TACs in the Western (Area 610) and Central (Areas 620 and 630) Regulatory Areas and the West Yakutat (Area 640) and the SEO (Area 650) Districts of the GOA (see Tables 1 and 2). NMFS also establishes seasonal apportionments of the annual pollock TACs in the Western and Central Regulatory Areas of the GOA among Statistical Areas 610, 620, and 630. Additional detail on area apportionments and seasonal allowances is provided in the Apportionments of Pollock TAC Among Seasons and Regulatory Areas, and Allocations for Processing by Inshore and Offshore Components section of this rule; Tables 3 and 4 list these amounts.

The 2023 and 2024 Pacific cod TACs are set to accommodate the State's GHLs for Pacific cod in State waters in the Western and Central Regulatory Areas, as well as in PWS (in the Eastern Regulatory Area). The Plan Team, SSC, AP, and Council recommended that the sum of all State waters and Federal waters Pacific cod removals from the GOA not exceed ABC recommendations. The Council recommended setting the 2023 and 2024 Pacific cod TACs in the Western, Central, and Eastern Regulatory Areas to account for State GHLs. Therefore, the 2023 Pacific cod TACs are less than the ABCs by the following amounts: (1) Western GOA, 2,239 mt; (2) Central GOA, 3,708 mt; and (3) Eastern GOA, 585 mt. The 2024 Pacific cod TACs are less than the ABCs by the following amounts: (1) Western GOA, 2,062 mt; (2) Central GOA, 3,414 mt; and (3) Eastern GOA, 539 mt. These amounts reflect the State's 2023 and 2024 GHLs in these areas, which are 30 percent of the Western GOA ABC and 25 percent of the Eastern and Central GOA ABCs.

The Western and Central GOA Pacific cod TACs are allocated among various gear and operational sectors. NMFS also establishes seasonal apportionments of the annual Pacific cod TACs in the Western and Central Regulatory Areas. The Pacific cod sector and seasonal apportionments are discussed in detail in the Annual and Seasonal Apportionments of Pacific Cod TAC section and in Tables 5 and 6 of this rule.

The Council's recommendation for sablefish area apportionments takes into account the prohibition on the use of trawl gear in the SEO District of the Eastern Regulatory Area (§ 679.7(b)(1)) and makes available 5 percent of the combined Eastern Regulatory Area TACs to vessels using trawl gear for use as incidental catch in other trawl groundfish fisheries in the WYK District (§ 679.20(a)(4)(i)). Tables 7 and 8 list the final 2023 and 2024 allocations of sablefish TAC to fixed gear and trawl gear in the GOA.

Changes From the Proposed 2023 and 2024 Harvest Specifications in the GOA

In October 2022, the Council's recommendations for the proposed 2023 and 2024 harvest specifications (87 FR 74102, December 2, 2022) were based largely on information contained in the final 2021 SAFE report for the GOA groundfish fisheries, dated November 2021. The final 2021 SAFE report for the GOA is available from the Council (see ADDRESSES). The Council proposed that the final OFLs, ABCs, and TACs established for the 2023 groundfish fisheries (87 FR 11599, March 2, 2022) be used for the proposed 2023 and 2024 harvest specifications (87 FR 74102, December 2, 2022), pending completion and review of the 2022 SAFE report at the Council's December 2022 meeting.

As described previously, the SSC recommended the final 2023 and 2024 OFLs and ABCs as recommended by the Plan Team, with the exception of the Pacific cod and demersal shelf rockfish OFLs and ABCs. The Council adopted as its recommendations the SSC's OFL and ABC recommendations and the AP's TAC recommendations for 2023 and 2024.

The final 2023 ABCs are higher than the proposed 2023 ABCs published in the proposed 2023 and 2024 harvest specifications (87 FR 74102, December 2, 2022) for pollock, sablefish, shallow-water flatfish, rex sole, arrowtooth flounder, Pacific ocean perch, northern rockfish, dusky rockfish, and sharks. The final 2023 ABCs are lower than the proposed 2023 ABCs for Pacific cod, deep-water flatfish, flathead sole, demersal shelf rockfish, thornyhead rockfish, and rougheye and blackspotted rockfish.

The final 2024 ABCs are higher than the proposed 2024 ABCs for pollock, sablefish, shallow-water flatfish, rex sole, flathead sole, dusky rockfish, and sharks. The final 2024 ABCs are lower than the proposed 2024 ABCs for Pacific cod, deep-water flatfish, arrowtooth flounder, Pacific ocean perch, northern rockfish, rougheye and blackspotted rockfish, demersal shelf rockfish, and thornyhead rockfish. For the remaining

target species (shortraker rockfish, “other rockfish,” Atka mackerel, big skates, longnose skates, other skates, and octopus), the Council recommended the final 2023 and 2024 ABCs that are the same as the proposed 2023 and 2024 ABCs.

Additional information explaining the changes between the proposed and final ABCs is included in the final 2022 SAFE report, which was not completed and available when the Council made its proposed ABC and TAC recommendations in October 2022. At that time, the most recent stock assessment information was contained in the final 2021 SAFE report. The final 2022 SAFE report contains the best and most recent scientific information on the condition of the groundfish stocks, as previously discussed in this preamble, and is available for review (see ADDRESSES). The Council considered the 2022 SAFE report in December 2022 when it made recommendations for the final 2023 and 2024 harvest specifications. In the GOA, the total final 2023 TAC amount is 468,796 mt, an increase of 5.7 percent from the total proposed 2023 TAC amount of 443,615 mt. The total final 2024 TAC amount is 476,537 mt, an increase of 7.4 percent from the total proposed 2024 TAC amount of 443,615 mt. Table 1a summarizes the difference between the proposed and final TACs.

Annual stock assessments incorporate a variety of new or revised inputs, such as survey data or catch information, as well as changes to the statistical models used to estimate a species' biomass and population trend. Changes to biomass and ABC estimates are primarily based on fishery catch updates to species' assessment models. Some species, such as pollock and sablefish, have additional surveys conducted on an annual basis, which resulted in additional data being available for the 2022 assessments for these stocks.

The changes for individual species or species groups from the proposed 2023 TACs to the final 2023 TACs are within a range of plus 53 percent or minus 22 percent, and the changes from the proposed 2024 TACs to the final 2024 TACs are within a range of plus 45 percent or minus 22 percent. Based on changes in the estimates of overall biomass in the stock assessment for 2023 and 2024, as compared to the estimates previously made for 2022 and 2023, the species or species group with the greatest TAC percentage increases are pollock, flathead sole, dusky rockfish, and sharks. Based on changes in the estimates of biomass, the species or species group with the greatest TAC percentage decreases are Pacific cod, demersal shelf rockfish, and thornyhead rockfish. For all other species and species groups, changes from the proposed 2023 TACs to the final 2023 TACs and changes from the proposed 2024 TACs to the final 2024 TACs are less than a 10 percent change (either increase or decrease). These TAC changes correspond to associated changes in the OFLs and ABCs, as recommended by the SSC, AP, and Council.

Detailed information providing the basis for the changes described above is contained in the final 2022 SAFE report. The final TACs are based on the best scientific information available, including biological and socioeconomic information. These TACs are specified in compliance with the harvest strategy described in the proposed and final rules for the 2023 and 2024 harvest specifications.

Table 1a—Comparison of Proposed and Final 2023 and 2024 GOA Total Allowable Catch Limits
[Values are rounded to the nearest metric ton and percentage]
Species | 2023 and 2024 Proposed TAC | 2023 Final TAC | 2023 Final minus 2023 Proposed TAC | Percentage difference | 2024 Final TAC | 2024 Final minus 2024 Proposed TAC | Percentage difference
Pollock | 139,977 | 156,578 | 16,601 | 12 | 168,416 | 28,439 | 20
Pacific cod | 21,096 | 18,103 | −2,994 | −14 | 16,668 | −4,428 | −21
Sablefish | 22,003 | 23,201 | 1,198 | 5 | 21,095 | −908 | −4
Shallow-water flatfish | 44,272 | 44,302 | 30 | 0 | 45,425 | 1,153 | 3
Deep-water flatfish | 5,818 | 5,816 | −2 | 0 | 5,719 | −99 | −2
Rex sole | 20,594 | 20,664 | 70 | 0 | 21,097 | 503 | 2
Arrowtooth flounder | 95,512 | 94,286 | −1,226 | −1 | 93,389 | −2,123 | −2
Flathead sole | 27,426 | 35,337 | 7,911 | 29 | 35,839 | 8,413 | 31
Pacific ocean perch | 37,104 | 37,193 | 89 | 0 | 36,196 | −908 | −2
Northern rockfish | 4,920 | 4,964 | 44 | 1 | 4,741 | −179 | −4
Shortraker rockfish | 705 | 705 | 0 | 0 | 705 | 0 | 0
Dusky rockfish | 5,181 | 7,917 | 2,736 | 53 | 7,520 | 2,339 | 45
Rougheye/blackspotted rockfish | 781 | 775 | −6 | −1 | 772 | −9 | −1
Demersal shelf rockfish | 365 | 283 | −82 | −22 | 283 | −82 | −22
Thornyhead rockfish | 1,953 | 1,628 | −325 | −17 | 1,628 | −325 | −17
Other rockfish | 1,610 | 1,610 | 0 | 0 | 1,610 | 0 | 0
Atka mackerel | 3,000 | 3,000 | 0 | 0 | 3,000 | 0 | 0
Big skate | 2,867 | 2,867 | 0 | 0 | 2,867 | 0 | 0
Longnose skate | 2,712 | 2,712 | 0 | 0 | 2,712 | 0 | 0
Other skates | 984 | 984 | 0 | 0 | 984 | 0 | 0
Sharks | 3,755 | 4,891 | 1,136 | 30 | 4,891 | 1,136 | 30
Octopuses | 980 | 980 | 0 | 0 | 980 | 0 | 0
Total | 443,615 | 468,796 | 25,181 | 5.7 | 476,537 | 32,922 | 7.4

The final 2023 and 2024 TAC amounts for the GOA are within the OY range established for the GOA and do not exceed the ABC for any species or species group. Tables 1 and 2 list the final OFL, ABC, and TAC amounts for GOA groundfish for 2023 and 2024, respectively.

Table 1—Final 2023 OFLs, ABCs, and TACs of Groundfish for the Western/Central/West Yakutat, Western, Central, Eastern Regulatory Areas, the West Yakutat and Southeast Outside Districts of the Eastern Regulatory Area, and Gulfwide Districts of the Gulf of Alaska
[Values are rounded to the nearest metric ton]
Species | Area ¹ | OFL | ABC | TAC
Pollock ² | Shumagin (610) | n/a | 26,958 | 26,958
| Chirikof (620) | n/a | 77,005 | 77,005
| Kodiak (630) | n/a | 33,729 | 33,729
| WYK (640) | n/a | 7,523 | 7,523
| W/C/WYK (subtotal) ² | 173,470 | 148,938 | 145,215
| SEO (650) | 15,150 | 11,363 | 11,363
| Total | 188,620 | 160,301 | 156,578
Pacific cod ³ | W | n/a | 7,464 | 5,225
| C | n/a | 14,830 | 11,123
| E | n/a | 2,340 | 1,755
| Total | 29,737 | 24,634 | 18,103
Sablefish ⁴ | W | n/a | 4,473 | 4,473
| C | n/a | 9,921 | 9,921
| WYK | n/a | 3,205 | 3,205
| SEO | n/a | 5,602 | 5,602
| Subtotal TAC | n/a |  | 23,201
| Total | 47,390 | 40,502 | n/a
Shallow-water flatfish ⁵ | W | n/a | 22,485 | 13,250
| C | n/a | 26,769 | 26,769
| WYK | n/a | 2,677 | 2,677
| SEO | n/a | 1,606 | 1,606
| Total | 65,736 | 53,537 | 44,302
Deep-water flatfish ⁶ | W | n/a | 256 | 256
| C | n/a | 2,105 | 2,105
| WYK | n/a | 1,407 | 1,407
| SEO | n/a | 2,048 | 2,048
| Total | 6,918 | 5,816 | 5,816
Rex sole | W | n/a | 3,236 | 3,236
| C | n/a | 13,110 | 13,110
| WYK | n/a | 1,439 | 1,439
| SEO | n/a | 2,879 | 2,879
| Total | 25,135 | 20,664 | 20,664
Arrowtooth flounder | W | n/a | 30,469 | 14,500
| C | n/a | 65,000 | 65,000
| WYK | n/a | 7,886 | 7,886
| SEO | n/a | 16,130 | 6,900
| Total | 142,749 | 119,485 | 94,286
Flathead sole | W | n/a | 12,793 | 8,650
| C | n/a | 21,487 | 21,487
| WYK | n/a | 2,320 | 2,320
| SEO | n/a | 2,880 | 2,880
| Total | 48,161 | 39,480 | 35,337
Pacific ocean perch ⁷ | W | n/a | 2,529 | 2,529
| C | n/a | 29,940 | 29,940
| WYK | n/a | 1,370 | 1,370
| W/C/WYK subtotal | 40,308 | 33,839 | 33,839
| SEO | 3,994 | 3,354 | 3,354
| Total | 44,302 | 37,193 | 37,193
Northern rockfish ⁸ | W | n/a | 2,614 | 2,614
| C | n/a | 2,350 | 2,350
| E | n/a |  |
| Total | 5,927 | 4,964 | 4,964
Shortraker rockfish ⁹ | W | n/a | 51 | 51
| C | n/a | 280 | 280
| E | n/a | 374 | 374
| Total | 940 | 705 | 705
Dusky rockfish ¹⁰ | W | n/a | 149 | 149
| C | n/a | 7,647 | 7,647
| WYK | n/a | 90 | 90
| SEO | n/a | 31 | 31
| Total | 9,638 | 7,917 | 7,917
Rougheye and Blackspotted rockfish ¹¹ | W | n/a | 180 | 180
| C | n/a | 232 | 232
| E | n/a | 363 | 363
| Total | 930 | 775 | 775
Demersal shelf rockfish ¹² | SEO | 376 | 283 | 283
Thornyhead rockfish ¹³ | W | n/a | 314 | 314
| C | n/a | 693 | 693
| E | n/a | 621 | 621
| Total | 2,170 | 1,628 | 1,628
Other rockfish ¹⁴ ¹⁵ | W and C | n/a | 940 | 940
| WYK | n/a | 370 | 370
| SEO | n/a | 2,744 | 300
| Total | 5,320 | 4,054 | 1,610
Atka mackerel | GW | 6,200 | 4,700 | 3,000
Big skate ¹⁶ | W | n/a | 591 | 591
| C | n/a | 1,482 | 1,482
| E | n/a | 794 | 794
| Total | 3,822 | 2,867 | 2,867
Longnose skate ¹⁷ | W | n/a | 151 | 151
| C | n/a | 2,044 | 2,044
| E | n/a | 517 | 517
| Total | 3,616 | 2,712 | 2,712
Other skates ¹⁸ | GW | 1,311 | 984 | 984
Sharks | GW | 6,521 | 4,891 | 4,891
Octopus | GW | 1,307 | 980 | 980
| Total | 646,826 | 539,072 | 468,796
¹ Regulatory areas and districts are defined at § 679.2. (W=Western Gulf of Alaska; C=Central Gulf of Alaska; E=Eastern Gulf of Alaska; WYK=West Yakutat District; SEO=Southeast Outside District; GW=Gulf-wide).
² The total for the W/C/WYK Regulatory Areas pollock ABC is 148,938 mt. After deducting 2.5 percent (3,723 mt) of that ABC for the State's pollock GHL fishery, the remaining pollock ABC of 145,215 mt (for the W/C/WYK Regulatory Areas) is apportioned among four statistical areas (Areas 610, 620, 630, and 640). These apportionments are considered subarea ACLs, rather than ABCs, for specification and reapportionment purposes. The ACLs in Areas 610, 620, and 630 are further divided by season, as detailed in Table 3 (final 2023 seasonal biomass distribution of pollock in the Western and Central Regulatory Areas, area apportionments, and seasonal allowances). In the West Yakutat (Area 640) and Southeast Outside (Area 650) Districts of the Eastern Regulatory Area, pollock is not divided into seasonal allowances.
³ The annual Pacific cod TAC is apportioned, after seasonal apportionment to the jig sector, as follows: (1) 63.84 percent to the A season and 36.16 percent to the B season and (2) 64.16 percent to the A season and 35.84 percent to the B season in the Western and Central Regulatory Areas of the GOA, respectively. Pacific cod TAC in the Eastern Regulatory Area of the GOA is allocated 90 percent to vessels harvesting Pacific cod for processing by the inshore component and 10 percent to vessels harvesting Pacific cod for processing by the offshore component. Table 5 lists the final 2023 Pacific cod seasonal apportionments and sector allocations.
⁴ The sablefish OFL and ABC are set Alaska-wide (47,390 mt and 40,502 mt, respectively), and the Alaska-wide totals are included in the total OFL and ABC in Table 1. Additionally, sablefish is allocated to trawl and fixed gear in 2023 and trawl gear in 2024. Table 7 lists the final 2023 allocations of sablefish TACs.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes, the 1 mt apportionment of ABC to the WYK District of the Eastern Gulf of Alaska has been included in the “other rockfish” species group.
⁹ “Shortraker rockfish” means Sebastes borealis.
¹⁰ “Dusky rockfish” means Sebastes variabilis.
¹¹ “Rougheye and blackspotted rockfish” mean Sebastes aleutianus (rougheye) and S. melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Thornyhead rockfish” means Sebastolobus species.
¹⁴ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, “other rockfish” also includes northern rockfish, S. polyspinis.
¹⁵ “Other rockfish” in the Western and Central Regulatory Areas and in the West Yakutat District means other rockfish and demersal shelf rockfish. The “other rockfish” species group in the SEO District only includes “other rockfish.”
¹⁶ “Big skate” means Raja binoculata.
¹⁷ “Longnose skate” means Raja rhina.
¹⁸ “Other skates” mean Bathyraja and Raja spp.

Table 2—Final 2024 OFLs, ABCs, and TACs of Groundfish for the Western/Central/West Yakutat, Western, Central, Eastern Regulatory Areas, the West Yakutat and Southeast Outside Districts of the Eastern Regulatory Area, and Gulfwide Districts of the Gulf of Alaska
[Values are rounded to the nearest metric ton]
Species | Area ¹ | OFL | ABC | TAC
Pollock ² | Shumagin (610) | n/a | 29,156 | 29,156
| Chirikof (620) | n/a | 83,283 | 83,283
| Kodiak (630) | n/a | 36,478 | 36,478
| WYK (640) | n/a | 8,136 | 8,136
| W/C/WYK (subtotal) ² | 186,101 | 161,080 | 157,053
| SEO (650) | 15,150 | 11,363 | 11,363
| Total | 201,251 | 172,443 | 168,416
Pacific cod ³ | W | n/a | 6,873 | 4,811
| C | n/a | 13,655 | 10,241
| E | n/a | 2,155 | 1,616
| Total | 27,507 | 22,683 | 16,668
Sablefish ⁴ | W | n/a | 4,626 | 4,626
| C | n/a | 8,819 | 8,819
| WYK | n/a | 2,669 | 2,669
| SEO | n/a | 4,981 | 4,981
| Subtotal TAC | n/a | n/a | 21,095
| Total | 48,561 | 41,539 | n/a
Shallow-water flatfish ⁵ | W | n/a | 23,299 | 13,250
| C | n/a | 27,737 | 27,737
| WYK | n/a | 2,774 | 2,774
| SEO | n/a | 1,664 | 1,664
| Total | 68,015 | 55,474 | 45,425
Deep-water flatfish ⁶ | W | n/a | 255 | 255
| C | n/a | 2,068 | 2,068
| WYK | n/a | 1,383 | 1,383
| SEO | n/a | 2,013 | 2,013
| Total | 6,802 | 5,719 | 5,719
Rex sole | W | n/a | 3,314 | 3,314
| C | n/a | 13,425 | 13,425
| WYK | n/a | 1,453 | 1,453
| SEO | n/a | 2,905 | 2,905
| Total | 25,652 | 21,097 | 21,097
Arrowtooth flounder | W | n/a | 30,093 | 14,500
| C | n/a | 64,200 | 64,200
| WYK | n/a | 7,789 | 7,789
| SEO | n/a | 15,932 | 6,900
| Total | 141,008 | 118,014 | 93,389
Flathead sole | W | n/a | 13,033 | 8,650
| C | n/a | 21,892 | 21,892
| WYK | n/a | 2,363 | 2,363
| SEO | n/a | 2,934 | 2,934
| Total | 49,073 | 40,222 | 35,839
Pacific ocean perch ⁷ | W | n/a | 2,461 | 2,461
| C | n/a | 29,138 | 29,138
| WYK | n/a | 1,333 | 1,333
| W/C/WYK | 39,229 | 32,932 | 32,932
| SEO | 3,888 | 3,264 | 3,264
| Total | 43,117 | 36,196 | 36,196
Northern rockfish ⁸ | W | n/a | 2,497 | 2,497
| C | n/a | 2,244 | 2,244
| E | n/a |  |
| Total | 5,661 | 4,741 | 4,741
Shortraker rockfish ⁹ | W | n/a | 51 | 51
| C | n/a | 280 | 280
| E | n/a | 374 | 374
| Total | 940 | 705 | 705
Dusky rockfish ¹⁰ | W | n/a | 141 | 141
| C | n/a | 7,264 | 7,264
| WYK | n/a | 85 | 85
| SEO | n/a | 30 | 30
| Total | 9,154 | 7,520 | 7,520
Rougheye and Blackspotted rockfish ¹¹ | W | n/a | 180 | 180
| C | n/a | 231 | 231
| E | n/a | 361 | 361
| Total | 927 | 772 | 772
Demersal shelf rockfish ¹² | SEO | 376 | 283 | 283
Thornyhead rockfish ¹³ | W | n/a | 314 | 314
| C | n/a | 693 | 693
| E | n/a | 621 | 621
| Total | 2,170 | 1,628 | 1,628
Other rockfish ¹⁴ ¹⁵ | W and C | n/a | 940 | 940
| WYK | n/a | 370 | 370
| SEO | n/a | 2,744 | 300
| Total | 5,320 | 4,054 | 1,610
Atka mackerel | GW | 6,200 | 4,700 | 3,000
Big skate ¹⁶ | W | n/a | 591 | 591
| C | n/a | 1,482 | 1,482
| E | n/a | 794 | 794
| Total | 3,822 | 2,867 | 2,867
Longnose skate ¹⁷ | W | n/a | 151 | 151
| C | n/a | 2,044 | 2,044
| E | n/a | 517 | 517
| Total | 3,616 | 2,712 | 2,712
Other skates ¹⁸ | GW | 1,311 | 984 | 984
Sharks | GW | 6,521 | 4,891 | 4,891
Octopus | GW | 1,307 | 980 | 980
| Total | 658,311 | 550,224 | 476,537
¹ Regulatory areas and districts are defined at § 679.2. (W=Western Gulf of Alaska; C=Central Gulf of Alaska; E=Eastern Gulf of Alaska; WYK=West Yakutat District; SEO=Southeast Outside District; GW=Gulf-wide).
² The total for the W/C/WYK Regulatory Areas pollock ABC is 161,080 mt. After deducting 2.5 percent (4,027 mt) of that ABC for the State's pollock GHL fishery, the remaining pollock ABC of 157,053 mt (for the W/C/WYK Regulatory Areas) is apportioned among four statistical areas (Areas 610, 620, 630, and 640). These apportionments are considered subarea ACLs, rather than ABCs, for specification and reapportionment purposes. The ACLs in Areas 610, 620, and 630 are further divided by season, as detailed in Table 4 (final 2024 seasonal biomass distribution of pollock in the Western and Central Regulatory Areas, area apportionments, and seasonal allowances). In the West Yakutat (Area 640) and Southeast Outside (Area 650) Districts of the Eastern Regulatory Area, pollock is not divided into seasonal allowances.
³ The annual Pacific cod TAC is apportioned, after seasonal apportionment to the jig sector, as follows: 1) 63.84 percent to the A season and 36.16 percent to the B season and 2) 64.16 percent to the A season and 35.84 percent to the B season in the Western and Central Regulatory Areas of the GOA, respectively. Pacific cod TAC in the Eastern Regulatory Area of the GOA is allocated 90 percent to vessels harvesting Pacific cod for processing by the inshore component and 10 percent to vessels harvesting Pacific cod for processing by the offshore component. Table 6 lists the final 2024 Pacific cod seasonal apportionments and sector allocations.
⁴ The sablefish OFL and ABC are set Alaska-wide (48,561 mt and 41,539 mt, respectively), and the Alaska-wide totals are included in the total OFL and ABC in Table 2. Additionally, sablefish is allocated only to trawl gear for 2024. Table 8 lists the final 2024 allocation of sablefish TACs to trawl gear.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes, the 1 mt apportionment of ABC to the WYK District of the Eastern Gulf of Alaska has been included in the “other rockfish” species group.
⁹ “Shortraker rockfish” means Sebastes borealis.
¹⁰ “Dusky rockfish” means Sebastes variabilis.
¹¹ “Rougheye and blackspotted rockfish” mean Sebastes aleutianus (rougheye) and S. melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Thornyhead rockfish” means Sebastolobus species.
¹⁴ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, “other rockfish” also includes northern rockfish, S. polyspinis.
¹⁵ “Other rockfish” in the Western and Central Regulatory Areas and in the West Yakutat District means other rockfish and demersal shelf rockfish. The “other rockfish” species group in the SEO District only includes “other rockfish.”
¹⁶ “Big skate” means Raja binoculata.
¹⁷ “Longnose skate” means Raja rhina.
¹⁸ “Other skates” mean Bathyraja and Raja spp.

Apportionment of Reserves

Section 679.20(b)(2) requires NMFS to set aside 20 percent of each TAC for pollock, Pacific cod, flatfish, sharks, and octopuses in reserve for possible apportionment at a later date during the fishing year. For 2023 and 2024, NMFS proposed reapportionment of all the reserves in the proposed 2023 and 2024 harvest specifications published in the Federal Register on December 2, 2022 (87 FR 74102). NMFS did not receive any public comments on the proposed reapportionments. For the final 2023 and 2024 harvest specifications, NMFS reapportions, as proposed, all the reserves for pollock, Pacific cod, flatfish, sharks, and octopuses back to the original TAC limit from which the reserve was derived (§ 679.20(b)(3)). This is being done because NMFS expects, based on recent harvest patterns, that such reserves are not necessary or that the entire TAC for each of these species will be caught. The TACs listed in Tables 1 and 2 reflect reapportionments of reserve amounts to the original TAC limit for these species and species groups, i.e., each final TAC for the above-mentioned species or species groups contains the full TAC recommended by the Council.

Apportionments of Pollock TAC Among Seasons and Regulatory Areas, and Allocations for Processing by Inshore and Offshore Components

In the GOA, pollock is apportioned by season and area, and is further allocated for processing by inshore and offshore components. The pollock TACs in the Western and Central Regulatory Areas of the GOA are apportioned among Statistical Areas 610, 620, and 630. These apportionments are divided into two equal seasonal allowances of 50 percent to the A season (January 20 through May 31) and 50 percent to the B season (September 1 through November 1) (§§ 679.20(a)(5)(iv)(B) and 679.23(d)(2)).

Effective in 2021, regulatory changes revised the number of GOA pollock seasons to two seasons from four seasons (85 FR 38093, June 25, 2020). The GOA pollock stock assessment continues to use a four-season methodology to determine pollock distribution in the Western and Central Regulatory Areas of the GOA to maintain continuity in the historical pollock apportionment time-series. Pollock TACs in the Western and Central Regulatory Areas of the GOA are apportioned among Statistical Areas 610, 620, and 630 in proportion to the distribution of pollock biomass determined by the most recent NMFS surveys, pursuant to § 679.20(a)(5)(iv)(A). The pollock chapter of the 2022 SAFE report (see ADDRESSES) contains a comprehensive description of the apportionment and reasons for the minor changes from past apportionments. For purposes of specifying pollock TAC between two seasons for the Western and Central Regulatory Areas of the GOA, NMFS has summed the A and B season apportionments and the C and D season apportionments, using the four-season methodology, as calculated in the 2022 GOA pollock assessment. This yields the seasonal amounts specified for the A season and the B season, respectively.

Within any fishing year, the amount by which a pollock seasonal allowance is underharvested or overharvested may be added to, or subtracted from, the subsequent seasonal allowance for the Western and Central Regulatory Areas in a manner to be determined by the Regional Administrator (§ 679.20(a)(5)(iv)(B)). The rollover amount is limited to 20 percent of the subsequent seasonal TAC apportionment for the statistical area. Any unharvested pollock above the 20-percent limit could be further distributed to the other statistical areas, in proportion to the estimated biomass in the subsequent season in those statistical areas and in an amount no more than 20 percent of the seasonal TAC apportionment in those statistical areas (§ 679.20(a)(5)(iv)(B)). The pollock TACs in the WYK and the SEO Districts of 7,523 mt and 11,363 mt, respectively, in 2023, and 8,136 mt and 11,363 mt, respectively, in 2024, are not allocated by season.

Tables 3 and 4 list the final 2023 and 2024 seasonal biomass distribution of pollock in the Western and Central Regulatory Areas, area apportionments, and seasonal allowances. The amounts of pollock for processing by the inshore and offshore components are not shown. Section 679.20(a)(6)(i) requires the allocation of 100 percent of the pollock TAC in all GOA regulatory areas and all seasonal allowances to vessels catching pollock for processing by the inshore component after subtraction of pollock amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed by § 679.20(e) and (f). At this time, these incidental catch amounts of pollock are unknown and will be determined during the fishing year during the course of fishing activities by the offshore component.

Table 3—Final 2023 Distribution of Pollock in the Western and Central Regulatory Areas of the Gulf of Alaska; Area Apportionments; and Seasonal Allowances of Annual TAC
[Values are rounded to the nearest metric ton ¹]
Season ² | Shumigan (Area 610) | Chirikof (Area 620) | Kodiak (Area 630) | Total ³
A (January 20-May 31) | 1,685 | 58,039 | 9,121 | 68,846
B (September 1-November 1) | 25,272 | 18,965 | 24,608 | 68,846
Annual Total | 26,958 | 77,005 | 33,729 | 137,691
¹ Area apportionments and seasonal allowances may not total precisely due to rounding.
² As established by § 679.23(d)(2), directed fishing for pollock in the Western and Central Regulatory Areas is authorized only during the following two seasons: January 20 through May 31 and September 1 through November 1, respectively. The amounts of pollock for processing by the inshore and offshore components are not shown in this table.
³ The West Yakutat and Southeast Outside District pollock TACs are not allocated by season and are not included in the total pollock TACs shown in this table.

Table 4—Final 2024 Distribution of Pollock in the Western and Central Regulatory Areas of the Gulf of Alaska; Area Apportionments; and Seasonal Allowances of Annual TAC
[Values are rounded to the nearest metric ton ¹]
Season ² | Shumigan (Area 610) | Chirikof (Area 620) | Kodiak (Area 630) | Total ³
A (January 20-May 31) | 1,823 | 62,771 | 9,864 | 74,459
B (September 1-November 1) | 27,333 | 20,511 | 26,614 | 74,459
Annual Total | 29,156 | 83,283 | 36,478 | 148,917
¹ Area apportionments and seasonal allowances may not total precisely due to rounding.
² As established by § 679.23(d)(2), directed fishing for pollock in the Western and Central Regulatory Areas is authorized only during the following two seasons: January 20 through May 31 and September 1 through November 1, respectively. The amounts of pollock for processing by the inshore and offshore components are not shown in this table.
³ The West Yakutat and Southeast Outside District pollock TACs are not allocated by season and are not included in the total pollock TACs shown in this table.

Annual and Seasonal Apportionments of Pacific Cod TAC

Pursuant to § 679.20(a)(12)(i), NMFS seasonally allocates the 2023 and 2024 Pacific cod TACs in the Western and Central Regulatory Areas of the GOA among gear and operational sectors. In the Western and Central Regulatory Areas, a portion of the annual TAC is apportioned to the A season for hook-and-line, pot, and jig gear from January 1 through June 10, and for trawl gear from January 20 through June 10, and a portion of the annual TAC is apportioned to the B season for jig gear from June 10 through December 31, for hook-and-line and pot gear from September 1 through December 31, and for trawl gear from September 1 through November 1 (§§ 679.20(a)(12) and 679.23(d)(3)). NMFS also allocates the Pacific cod TACs annually between the inshore (90 percent) and offshore (10 percent) components in the Eastern Regulatory Area of the GOA (§ 679.20(a)(6)(ii)).

In the Central GOA, the Pacific cod TAC is apportioned seasonally first to vessels using jig gear, and then among catcher vessels (CVs) less than 50 feet (15.2 meters (m)) in length overall using hook-and-line gear, CVs equal to or greater than 50 feet (15.2 m) in length overall using hook-and-line gear, catcher/processors (CPs) using hook-and-line gear, CVs using trawl gear, CPs using trawl gear, and vessels using pot gear (§ 679.20(a)(12)(i)(B)). In the Western GOA, the Pacific cod TAC is apportioned seasonally first to vessels using jig gear, and then among CVs using hook-and-line gear, CPs using hook-and-line gear, CVs using trawl gear, CPs using trawl gear, and vessels using pot gear (§ 679.20(a)(12)(i)(A)). Excluding seasonal apportionments to the jig sector, NMFS seasonally apportions the remainder of the annual Pacific cod TACs in the Western GOA as 63.84 percent to the A season and 36.16 percent to the B season, and in the Central GOA as 64.16 percent to the A season and 35.84 percent to the B season.

Under § 679.20(a)(12)(ii), any overage or underage of the Pacific cod season allowance from the A season may be subtracted from, or added to, the subsequent B season allowance. In addition, any portion of the hook-and-line, trawl, pot, or jig sector allocations that is determined by NMFS as likely to go unharvested by a sector may be reallocated to other sectors for harvest during the remainder of the fishing year.

Pursuant to § 679.20(a)(12)(i)(A) and (B), a portion of the annual Pacific cod TACs in the Western and Central GOA will be allocated to vessels with a Federal fisheries permit that use jig gear before the TACs are apportioned among other non-jig sectors. In accordance with the FMP, the annual jig sector allocations may increase to up to 6 percent of the annual Western and Central GOA Pacific cod TACs, depending on the annual performance of the jig sector (see Table 1 of the rulemaking to implement Amendment 83 to the FMP for a detailed discussion of the jig sector allocation process (76 FR 74670, December 1, 2011)). Jig sector allocation increases are established for a minimum of 2 years.

NMFS has evaluated the historical harvest performance of the jig sector in the Western and Central GOA, and is establishing the 2023 and 2024 Pacific cod apportionments to this sector based on its historical harvest performance through 2022. NMFS did not evaluate the 2020 performance of the jig sectors in the Western and Central GOA. Since NMFS prohibited directed fishing for all Pacific cod sectors in 2020, the catch for the jig sectors could not reach 90 percent of the annual allocation that is required for a performance increase in the following year's allocation (87 FR 74102, December 2, 2022; 84 FR 70438, December 23, 2019). For 2023 and 2024, NMFS allocates the jig sector 2.5 percent of the annual Pacific cod TAC in the Western GOA. The 2023 and 2024 allocations consist of a base allocation of 1.5 percent of the Western GOA Pacific cod TAC, and prior additional performance increases of 1.0 percent. For 2023 and 2024, NMFS allocates the jig sector 1.0 percent of the annual Pacific cod TAC in the Central GOA. The 2023 and 2024 allocations consist of a base allocation of 1.0 percent of the Central GOA Pacific cod TAC, and no additional performance increase in the Central GOA.

For 2023 and 2024, NMFS is apportioning the jig sector allocations for the Western and Central GOA between the A season (60 percent) and the B season (40 percent), pursuant to § 679.20(a)(12)(i). This is the same jig sector seasonal apportionment implemented in prior groundfish harvest specifications for the GOA and is consistent with Amendment 83 to the FMP (76 FR 44700, July 26, 2011).

Tables 5 and 6 list the seasonal apportionments and allocations of the 2023 and 2024 Pacific cod TACs.

Table 5—Final 2023 Seasonal Apportionments and Allocation of Pacific Cod Total Allowable Catch (TAC) Amounts in the GOA; Allocations in the Western GOA and Central GOA Sectors, and the Eastern GOA Inshore and Offshore Processing Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA:
Jig (2.5% of TAC) | 131 | 2.50 | 78 | N/A | 52
Hook-and-line CV | 71 | 0.70 | 36 | 0.70 | 36
Hook-and-line CP | 1,009 | 10.90 | 555 | 8.90 | 453
Trawl CV | 1,956 | 31.54 | 1,607 | 6.86 | 349
Trawl CP | 122 | 0.90 | 46 | 1.50 | 76
All Pot CV and Pot CP | 1,936 | 19.80 | 1,009 | 18.20 | 927
Total | 5,225 | 63.84 | 3,331 | 36.16 | 1,894
Central GOA:
Jig (1.0% of TAC) | 111 | 1.00 | 67 | N/A | 44
Hook-and-line <50 CV | 1,608 | 9.32 | 1,026 | 5.29 | 582
Hook-and-line ≥50 CV | 738 | 5.61 | 618 | 1.10 | 121
Hook-and-line CP | 562 | 4.11 | 452 | 1.00 | 110
Trawl CV ¹ | 4,579 | 25.29 | 2,785 | 16.29 | 1,794
Trawl CP | 462 | 2.00 | 221 | 2.19 | 242
All Pot CV and Pot CP | 3,062 | 17.83 | 1,963 | 9.97 | 1,098
Total | 11,123 | 64.16 | 7,131 | 35.84 | 3,991
Eastern GOA |  | Inshore (90% of Annual TAC) |  | Offshore (10% of Annual TAC)
| 1,755 | 1,580 |  | 176
¹ Trawl catcher vessels participating in Rockfish Program cooperatives receive 3.81 percent, or 424 mt, of the annual Central GOA TAC, which is deducted from the Trawl CV B season allowance (see Table 12. Final 2023 Apportionments of Rockfish Secondary Species in the Central GOA and Table 28c to 50 CFR part 679).

Table 6—Final 2024 Seasonal Apportionments and Allocation of Pacific Cod Total Allowable Catch (TAC) Amounts in the GOA; Allocations in the Western GOA and Central GOA Sectors, and the Eastern GOA Inshore and Offshore Processing Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA:
Jig (2.5% of TAC) | 120 | 2.50 | 72 | N/A | 48
Hook-and-line CV | 66 | 0.70 | 33 | 0.70 | 33
Hook-and-line CP | 929 | 10.90 | 511 | 8.90 | 417
Trawl CV | 1,801 | 31.54 | 1,479 | 6.86 | 322
Trawl CP | 113 | 0.90 | 42 | 1.50 | 70
All Pot CV and Pot CP | 1,783 | 19.80 | 929 | 18.20 | 854
Total | 4,811 | 63.84 | 3,067 | 36.16 | 1,744
Central GOA:
Jig (1.0% of TAC) | 102 | 1.00 | 61 | N/A | 41
Hook-and-line <50 CV | 1,481 | 9.32 | 944 | 5.29 | 536
Hook-and-line ≥50 CV | 680 | 5.61 | 569 | 1.10 | 111
Hook-and-line CP | 518 | 4.11 | 416 | 1.00 | 101
Trawl CV ¹ | 4,216 | 25.29 | 2,564 | 16.29 | 1,652
Trawl CP | 426 | 2.00 | 203 | 2.19 | 222
All Pot CV and Pot CP | 2,819 | 17.83 | 1,808 | 9.97 | 1,011
Total | 10,241 | 64.16 | 6,566 | 35.84 | 3,675
Eastern GOA |  | Inshore (90% of Annual TAC) |  | Offshore (10% of Annual TAC)
| 1,616 | 1,455 |  | 162
¹ Trawl catcher vessels participating in Rockfish Program cooperatives receive 3.81 percent, or 390 mt, of the annual Central GOA TAC, which is deducted from the Trawl CV B season allowance (see Table 13. Final 2024 Apportionments of Rockfish Secondary Species in the Central GOA and Table 28c to 50 CFR part 679).

Allocations of the Sablefish TAC Amounts to Vessels Using Fixed and Trawl Gear

Section 679.20(a)(4)(i) and (ii) require allocations of sablefish TACs for each of the regulatory areas and districts to fixed and trawl gear. In the Western and Central Regulatory Areas, 80 percent of each TAC is allocated to fixed gear, and 20 percent of each TAC is allocated to trawl gear. In the Eastern Regulatory Area, 95 percent of the TAC is allocated to fixed gear, and 5 percent is allocated to trawl gear. The trawl gear allocation in the Eastern Regulatory Area may only be used to support incidental catch of sablefish using trawl gear while directed fishing for other target species (§ 679.20(a)(4)(i)).

In recognition of the prohibition against trawl gear in the SEO District of the Eastern Regulatory Area, the Council recommended, and NMFS approves, specifying for incidental catch the allocation of 5 percent of the combined Eastern Regulatory Area sablefish TAC to trawl gear in the WYK District of the Eastern Regulatory Area. The remainder of the WYK District sablefish TAC is allocated to vessels using fixed gear. NMFS allocates 100 percent of the sablefish TAC in the SEO District to vessels using fixed gear. This action results in 2023 allocations of 440 mt to trawl gear and 2,765 mt to fixed gear in the WYK District, a 2023 allocation of 5,602 mt to fixed gear in the SEO District, and a 2024 allocation of 383 mt to trawl gear in the WYK District. Table 7 lists the allocations of the 2023 sablefish TACs to fixed and trawl gear. Table 8 lists the allocations of the 2024 sablefish TACs to trawl gear.

The Council recommended that a trawl sablefish TAC be established for 2 years so that retention of incidental catch of sablefish by trawl gear could commence in January in the second year of the groundfish harvest specifications. Both the 2023 and 2024 trawl allocations are specified in these final harvest specifications in Tables 7 and 8, respectively.

The Council also recommended that the fixed gear sablefish TAC be established annually to ensure that this IFQ fishery is conducted concurrently with the halibut IFQ fishery and is based on the most recent survey information. Since there is an annual assessment for sablefish and since the final harvest specifications are expected to be published before the IFQ season begins in March 2023, the Council recommended that the fixed gear sablefish TAC be set annually, rather than for 2 years, so that the best scientific information available could be considered in establishing the sablefish TACs. Accordingly, Table 7 lists the 2023 fixed gear allocations, and the 2024 fixed gear allocations will be specified in the 2024 and 2025 harvest specifications.

With the exception of the trawl allocations that are provided to the Rockfish Program (see Table 28c to 50 CFR part 679), directed fishing for sablefish with trawl gear in the GOA is closed during the fishing year. Also, fishing for groundfish with trawl gear is prohibited prior to January 20 (§ 679.23(c)). Therefore, it is not likely that the sablefish allocation to trawl gear will be reached before the effective date of these final 2023 and 2024 harvest specifications.

Table 7—Final 2023 Sablefish TAC Amounts in the Gulf of Alaska and Allocations to Fixed and Trawl Gear
[Values are rounded to the nearest metric ton]
Area/district | TAC | Fixed gear allocation | Trawl gear allocation
Western | 4,473 | 3,578 | 895
Central ¹ | 9,921 | 7,936 | 1,985
West Yakutat ² | 3,205 | 2,765 | 440
Southeast Outside | 5,602 | 5,602 | 0
Total | 23,201 | 19,881 | 3,320
¹ The trawl allocation of sablefish in the Central Regulatory Area is further apportioned to the Rockfish Program cooperatives (1,021 mt). See Table 12: Final 2023 Apportionments of Rockfish Secondary Species in the Central GOA. This results in 964 mt being available for the non-Rockfish Program trawl fisheries.
² The trawl allocation is based on allocating 5 percent of the combined Eastern Regulatory Area (West Yakutat and Southeast Outside Districts) sablefish TAC as incidental catch to trawl gear in the West Yakutat District.

Table 8—Final 2024 Sablefish TAC Amounts in the Gulf of Alaska and Allocations to Trawl Gear ¹
[Values are rounded to the nearest metric ton]
Area/district | TAC | Fixed gear allocation | Trawl gear allocation
Western | 4,626 | n/a | 925
Central ² | 8,819 | n/a | 1,764
West Yakutat ³ | 2,669 | n/a | 383
Southeast Outside | 4,981 | n/a | 0
Total | 21,095 | 0 | 3,072
¹ The Council recommended that the final 2024 harvest specifications for the fixed gear sablefish Individual Fishing Quota fisheries not be specified in the final 2023 and 2024 harvest specifications. The final 2024 harvest specifications for fixed gear will be specified in the 2024 and 2025 harvest specifications.
² The trawl allocation of sablefish in the Central Regulatory Area is further apportioned to the Rockfish Program cooperatives (907 mt). See Table 13: Final 2024 Apportionments of Rockfish Secondary Species in the Central GOA. This results in 857 mt being available for the non-Rockfish Program trawl fisheries.
³ The trawl allocation is based on allocating 5 percent of the combined Eastern Regulatory Area (West Yakutat and Southeast Outside Districts) sablefish TAC as incidental catch to trawl gear in the West Yakutat District.

Allocations, Apportionments, and Sideboard Limits for the Rockfish Program

These final 2023 and 2024 harvest specifications for the GOA include the fishery cooperative allocations and sideboard limitations established by the Rockfish Program. Rockfish Program participants are primarily trawl CVs and trawl CPs, with limited participation by vessels using longline gear. The Rockfish Program assigns quota share and cooperative quota to participants for primary species (Pacific ocean perch, northern rockfish, and dusky rockfish) and secondary species (Pacific cod, rougheye and blackspotted rockfish, sablefish, shortraker rockfish, and thornyhead rockfish), allows a participant holding a license limitation program (LLP) license with rockfish quota share to form a rockfish cooperative with other persons, and allows holders of CP LLP licenses to opt out of the fishery. The Rockfish Program also has an entry-level fishery for rockfish primary species for vessels using longline gear. Longline gear includes hook-and-line, jig, troll, and handline gear.

Under the Rockfish Program, rockfish primary species in the Central GOA are allocated to participants after deducting for incidental catch needs in other directed groundfish fisheries (§ 679.81(a)(2)). Participants in the Rockfish Program also receive a portion of the Central GOA TAC of specific secondary species. In addition to groundfish species, the Rockfish Program allocates a portion of the halibut PSC limit (191 mt) from the third season deep-water species fishery allowance for the GOA trawl fisheries to Rockfish Program participants (§ 679.81(d) and Table 28d to 50 CFR part 679). The Rockfish Program also establishes sideboard limits to restrict the ability of harvesters operating under the Rockfish Program to increase their participation in other, non-Rockfish Program fisheries. These restrictions and halibut PSC limits are discussed in the Rockfish Program Groundfish Sideboard and Halibut PSC Limitations section of this rule.

Section 679.81(a)(2)(ii) and Table 28e to 50 CFR part 679 require allocations of 5 mt of Pacific ocean perch, 5 mt of northern rockfish, and 50 mt of dusky rockfish to the entry-level longline fishery in 2023 and 2024. The allocations for the entry-level longline fishery may increase incrementally each year if the catch in the previous year exceeds 90 percent of the allocation of a species. The incremental increase in the allocation would continue each year until it reaches the maximum percent of the TAC assigned to the Rockfish Program for that species. In 2022, the catch of Pacific ocean perch, northern rockfish, and dusky rockfish did not attain the 90 percent threshold, and the final allocations for 2023 therefore remain the same as the 2022 allocations. The remainder of the TACs for the rockfish primary species are allocated to the CV and CP cooperatives (§ 679.81(a)(2)(iii)). Table 9 lists the allocations of the 2023 and 2024 TACs for each rockfish primary species to the entry-level longline fishery, the potential incremental increases for future years, and the maximum percent of the TACs assigned to the Rockfish Program that may be allocated to the rockfish entry-level longline fishery.

Table 9—Final 2023 and Initial 2024 Allocations of Rockfish Primary Species to the Entry Level Longline Fishery in the Central Gulf of Alaska
Rockfish primary species | 2023 and 2024 allocations | Incremental increase in 2024 if >90% of 2023 allocation is harvested | Up to maximum percent of TAC
Pacific ocean perch | 5 metric tons | 5 metric tons | 1
Northern rockfish | 5 metric tons | 5 metric tons | 2
Dusky rockfish | 50 metric tons | 20 metric tons | 5

Section 679.81 requires allocations of rockfish primary species among various sectors of the Rockfish Program. Tables 10 and 11 list the final 2023 and 2024 allocations of rockfish primary species in the Central GOA to the entry-level longline fishery, and rockfish CV and CP cooperatives in the Rockfish Program. NMFS also is setting aside incidental catch amounts (ICAs) for other directed fisheries in the Central GOA of 3,000 mt of Pacific ocean perch, 300 mt of northern rockfish, and 250 mt of dusky rockfish. These amounts are based on recent average incidental catches of these species in the Central GOA by other groundfish fisheries.

Allocations among vessels belonging to CV or CP cooperatives are not included in these final harvest specifications. Rockfish Program applications for CV cooperatives and CP cooperatives are not due to NMFS until March 1 of each calendar year; therefore, NMFS cannot calculate 2023 and 2024 allocations in conjunction with these final harvest specifications (§ 679.81(f)). After receiving the Rockfish Program applications, NMFS will calculate the 2023 allocations for CV and CP cooperatives, as set forth in § 679.81(b), (c), and (e); NMFS will post the 2023 allocations on the Alaska Region website at https://www.fisheries.noaa.gov/alaska/sustainable-fisheries/alaska-fisheries-management-reports#central-goa-rockfish when they become available after March 1, 2023.

Table 10—Final 2023 Allocations of Rockfish Primary Species in the Central Gulf of Alaska to the Entry Level Longline Fishery and Rockfish Cooperatives in the Rockfish Program
[Values are rounded to the nearest metric ton]
Rockfish primary species | Central GOA annual TAC | Incidental catch allowance | TAC minus ICA | Allocation to the entry level longline ¹ fishery | Allocation to the Rockfish cooperatives ²
Pacific ocean perch | 29,940 | 3,000 | 26,940 | 5 | 26,935
Northern rockfish | 2,350 | 300 | 2,050 | 5 | 2,045
Dusky rockfish | 7,647 | 250 | 7,397 | 50 | 7,347
Total | 39,937 | 3,550 | 36,387 | 60 | 36,327
¹ Longline gear includes hook-and-line, jig, troll, and handline gear (50 CFR 679.2).
² Rockfish cooperatives include vessels in CV and CP cooperatives (50 CFR 679.81).

Table 11—Final 2024 Allocations of Rockfish Primary Species in the Central Gulf of Alaska to the Entry Level Longline Fishery and Rockfish Cooperatives in the Rockfish Program
[Values are rounded to the nearest metric ton]
Rockfish primary species | Central GOA annual TAC | Incidental catch allowance | TAC minus ICA | Allocation to the entry level longline ¹ fishery | Allocation to the Rockfish cooperatives ²
Pacific ocean perch | 29,138 | 3,000 | 26,138 | 5 | 26,133
Northern rockfish | 2,244 | 300 | 1,944 | 5 | 1,939
Dusky rockfish | 7,264 | 250 | 7,014 | 50 | 6,964
Total | 38,646 | 3,550 | 35,096 | 60 | 35,036
¹ Longline gear includes hook-and-line, jig, troll, and handline gear (50 CFR 679.2).
² Rockfish cooperatives include vessels in CV and CP cooperatives (50 CFR 679.81).

Section 679.81(c) and Table 28c to 50 CFR part 679 require allocations of rockfish secondary species to CV and CP cooperatives in the Central GOA. CV cooperatives receive allocations of Pacific cod, sablefish from the trawl gear allocation, and thornyhead rockfish. CP cooperatives receive allocations of sablefish from the trawl gear allocation, rougheye and blackspotted rockfish, shortraker rockfish, and thornyhead rockfish. Tables 12 and 13 list the apportionments of the 2023 and 2024 TACs of rockfish secondary species in the Central GOA to CV and CP cooperatives.

Table 12—Final 2023 Apportionments of Rockfish Secondary Species in the Central GOA to Catcher Vessel and Catcher/Processor Cooperatives
[Values are rounded to the nearest metric ton]
Rockfish secondary species | Central GOA annual TAC | Catcher vessel cooperatives: Percentage of TAC | Catcher vessel cooperatives: Apportionment (mt) | Catcher/processor cooperatives: Percentage of TAC | Catcher/processor cooperatives: Apportionment (mt)
Pacific cod | 11,123 | 3.81 | 424 | 0.00 | 0
Sablefish | 9,921 | 6.78 | 673 | 3.51 | 348
Shortraker rockfish | 280 | 0.00 | 0 | 40.00 | 112
Rougheye/blackspotted rockfish | 232 | 0.00 | 0 | 58.87 | 137
Thornyhead rockfish | 693 | 7.84 | 54 | 26.50 | 184

Table 13—Final 2024 Apportionments of Rockfish Secondary Species in the Central GOA to Catcher Vessel and Catcher/Processor Cooperatives
[Values are rounded to the nearest metric ton]
Rockfish secondary species | Central GOA annual TAC | Catcher vessel cooperatives: Percentage of TAC | Catcher vessel cooperatives: Apportionment (mt) | Catcher/processor cooperatives: Percentage of TAC | Catcher/processor cooperatives: Apportionment (mt)
Pacific cod | 10,241 | 3.81 | 390 | 0.00 | 0
Sablefish | 8,819 | 6.78 | 598 | 3.51 | 310
Shortraker rockfish | 280 | 0.00 | 0 | 40.00 | 112
Rougheye/blackspotted rockfish | 231 | 0.00 | 0 | 58.87 | 136
Thornyhead rockfish | 693 | 7.84 | 54 | 26.50 | 184

Halibut PSC Limits

Section 679.21(d) establishes annual halibut PSC limit apportionments to trawl gear and hook-and-line gear, and authorizes the establishment of apportionments for pot gear. In December 2022, the Council recommended and NMFS approves halibut PSC limits of 1,705 mt for trawl gear, 257 mt for hook-and-line gear, and 9 mt for the demersal shelf (DSR) rockfish fishery in the SEO District for both 2023 and 2024, consistent with § 679.21.

The DSR fishery in the SEO District is defined at § 679.21(d)(2)(ii)(A). This fishery is apportioned 9 mt of the halibut PSC limit in recognition of its small-scale harvests of groundfish (§ 679.21(d)(2)(i)(A)). The separate halibut PSC limit for the DSR fishery is intended to prevent that fishery from being impacted from the halibut PSC incurred by other GOA fisheries. NMFS estimates low halibut bycatch in the DSR fishery because: (1) the duration of the DSR fishery and the gear soak times are short; (2) the DSR fishery occurs in the winter when there is less overlap in the distribution of DSR and halibut; and, (3) the directed commercial DSR fishery has a low DSR TAC. The Alaska Department of Fish and Game sets the commercial GHL for the DSR fishery after deducting estimates of DSR incidental catch in all fisheries (including halibut and subsistence) and allocation to the sport DSR fishery. In 2022, the commercial fishery for DSR was closed due to concerns about declining DSR biomass.

The FMP authorizes the Council and NMFS to exempt specific gear from the halibut PSC limits. NMFS, after consultation with the Council, exempts pot gear, the sablefish IFQ fixed gear fishery categories, and jig gear from the non-trawl halibut PSC limit for 2023 and 2024. The Council recommended, and NMFS approves, these exemptions because: (1) the pot gear fisheries have low annual halibut bycatch mortality; (2) IFQ program regulations prohibit discard of halibut if any halibut IFQ permit holder on board a catcher vessel holds unused halibut IFQ for that vessel category and the IFQ regulatory area in which the vessel is operating (§ 679.7(f)(11)); (3) some sablefish IFQ fishermen hold halibut IFQ permits and are therefore required to retain the halibut they catch while fishing sablefish IFQ; and (4) NMFS estimates negligible halibut mortality for the jig gear fisheries given the small amount of groundfish harvested by jig gear, the selective nature of jig gear, and the high survival rates of halibut caught and released with jig gear.

The best available information on estimated halibut bycatch consists of data collected by fisheries observers during 2022. The calculated halibut bycatch mortality through December 31, 2022, is 355 mt for trawl gear and 43 mt for hook-and-line gear for a total halibut mortality of 398 mt. This halibut mortality was calculated using groundfish and halibut catch data from the NMFS Alaska Region's catch accounting system. This accounting system contains historical and recent catch information compiled from each Alaska groundfish fishery.

Section 679.21(d)(4)(i) and (ii) authorize NMFS to seasonally apportion the halibut PSC limits after consultation with the Council. The FMP and regulations require that the Council and NMFS consider the following information in seasonally apportioning halibut PSC limits: (1) seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry. The Council considered information from the 2022 SAFE report, NMFS catch data, State of Alaska catch data, International Pacific Halibut Commission (IPHC) stock assessment and mortality data, and public testimony when apportioning the halibut PSC limits. NMFS concurs with the Council's recommendations listed in Table 14, which shows the final 2023 and 2024 Pacific halibut PSC limits, allowances, and apportionments.

Section 679.21(d)(4)(iii) and (iv) specify that any unused amounts, or overages, of a seasonal apportionment of a halibut PSC limit will be added to, or deducted from, the next respective seasonal apportionment within the fishing year.

Table 14—Final 2023 and 2024 Pacific Halibut Prohibited Species Catch (PSC) Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 30.5 | 519 | January 1-June 10 | 86 | 221 | January 1-December 31 | 9
April 1-July 1 | 20.0 | 341 | June 10-September 1 | 2 | 5
July 1-August 1 | 27.0 | 462 | September 1-December 31 | 12 | 31
August 1-October 1 | 7.5 | 128
October 1-December 31 | 15.0 | 256
Total |  | 1,705 |  |  | 257 |  | 9
Note: Seasonal or sector apportionments may not total precisely due to rounding.
¹ The Pacific halibut prohibited species catch (PSC) limit for hook-and-line gear is allocated to the DSR fishery in the SEO District and to the hook-and-line fisheries other than the DSR fishery. The fixed gear sablefish IFQ fishery is exempt from halibut PSC limits, as are pot and jig gear for all groundfish fisheries.

Section 679.21(d)(3)(ii) authorizes further apportionment of the trawl halibut PSC limit to trawl fishery categories listed in § 679.21(d)(3)(iii). The annual apportionments are based on each category's proportional share of the anticipated halibut bycatch mortality during the fishing year and optimization of the total amount of groundfish harvest under the halibut PSC limit. The fishery categories for the trawl halibut PSC limits are: (1) a deep-water species fishery, composed of sablefish, rockfish, deep-water flatfish, rex sole, and arrowtooth flounder; and (2) a shallow-water species fishery, composed of pollock, Pacific cod, shallow-water flatfish, flathead sole, Atka mackerel, and “other species” (sharks and octopuses) (§ 679.21(d)(3)(iii)). Halibut mortality incurred while directed fishing for skates with trawl gear accrues towards the shallow-water species fishery halibut PSC limit (69 FR 26320, May 12, 2004).

NMFS will combine available trawl halibut PSC limit apportionments during a portion of the second season deep-water and shallow-water species fisheries for use in either fishery from May 15 through June 30 (§ 679.21(d)(4)(iii)(D)). This is intended to maintain groundfish harvest while minimizing halibut bycatch by these sectors to the extent practicable. This provides the deep-water and shallow-water species trawl fisheries additional flexibility and the incentive to participate in fisheries at times of the year that may have lower halibut PSC rates relative to other times of the year.

Table 15 lists the final 2023 and 2024 apportionments of trawl halibut PSC limits between the trawl gear deep-water and shallow-water species fishery categories.

Table 28d to 50 CFR part 679 specifies the amount of the trawl halibut PSC limit that is assigned to the CV and CP sectors that are participating in the Rockfish Program. This includes 117 mt of halibut PSC limit to the CV sector and 74 mt of halibut PSC limit to the CP sector. These amounts are allocated from the trawl deep-water species fishery's halibut PSC third seasonal apportionment. After the combined CV and CP halibut PSC limit allocation of 191 mt to the Rockfish Program, 150 mt remains for the trawl deep-water species fishery's halibut PSC third seasonal apportionment.

Section 679.21(d)(4)(iii)(B) limits the amount of the halibut PSC limit allocated to Rockfish Program participants that could be re-apportioned to the last seasonal apportionment for the general GOA trawl fisheries during the current fishing year to no more than 55 percent of the unused annual halibut PSC limit apportioned to Rockfish Program participants. The remainder of the unused Rockfish Program halibut PSC limit is unavailable for use by any person for the remainder of the fishing year (§ 679.21(d)(4)(iii)(C)).

Table 15—Final 2023 and 2024 Apportionment of Pacific Halibut Prohibited Species Catch Limits Between the Trawl Gear Deep-Water Species Fishery and the Shallow-Water Species Fishery Categories
[Values are in metric tons]
Season | Shallow-water | Deep-water ¹ | Total
January 20-April 1 | 384 | 135 | 519
April 1-July 1 | 85 | 256 | 341
July 1-August 1 | 121 | 341 | 462
August 1-October 1 | 53 | 75 | 128
Subtotal January 20-October 1 | 643 | 807 | 1,450
October 1-December 31 ² |  |  | 256
Total |  |  | 1,705
¹ Vessels participating in cooperatives in the Central GOA Rockfish Program will receive 191 mt of the third season (July 1 through August 1) deep-water species fishery halibut PSC apportionment.
² There is no apportionment between trawl shallow-water and deep-water species fishery categories during the fifth season (October 1 through December 31).

Section 679.21(d)(2)(i)(B) requires that the “other hook-and-line fishery” halibut PSC limit apportionment to vessels using hook-and-line gear must be apportioned between CVs and CPs in accordance with § 679.21(d)(2)(iii) in conjunction with these harvest specifications. A comprehensive description and example of the calculations necessary to apportion the “other hook-and-line fishery” halibut PSC limit between the hook-and-line CV and CP sectors were included in the proposed rule to implement Amendment 83 to the FMP (76 FR 44700, July 26, 2011) and are not repeated here.

Pursuant to § 679.21(d)(2)(iii), the hook-and-line halibut PSC limit for the “other hook-and-line fishery” is apportioned between the CV and CP sectors in proportion to the total Western and Central GOA Pacific cod allocations, which vary annually based on the proportion of the Pacific cod biomass between the Western, Central, and Eastern GOA. Pacific cod is apportioned among these three management areas based on the percentage of overall biomass per area, as calculated in the 2022 Pacific cod stock assessment. Updated information in the final 2022 SAFE report describes this distributional calculation, which allocates ABC among GOA regulatory areas on the basis of the three most recent stock surveys. For 2023 and 2024, the distribution of the total GOA Pacific cod ABC is 29 percent to the Western GOA, 61 percent to the Central GOA, and 10 percent to the Eastern GOA. Therefore, the calculations made in accordance with § 679.21(d)(2)(iii) incorporate the most recent information on GOA Pacific cod distribution and allocations with respect to establishing the annual halibut PSC limits for the CV and CP hook-and-line sectors of the “other hook-and-line fishery.” Additionally, the annual halibut PSC limits for both the CV and CP sectors of the “other hook-and-line fishery” are divided into three seasonal apportionments, using seasonal percentages of 86 percent, 2 percent, and 12 percent.

For 2023 and 2024, NMFS apportions halibut PSC limits of 150 mt and 107 mt to the hook-and-line CV and hook-and-line CP sectors, respectively. Table 16 lists the final 2023 and 2024 apportionments of halibut PSC limits between the hook-and-line CV and the hook-and-line CP sectors of the “other hook-and-line fishery.”

No later than November 1 of each year, NMFS will calculate the projected unused amount of halibut PSC limit by either of the CV or CP hook-and-line sectors that comprise the two sectors of the “other hook-and-line fishery” for the remainder of the year. The projected unused amount of halibut PSC limit is made available to the other sector for the remainder of that fishing year (§ 679.21(d)(2)(iii)(C)), if NMFS determines that an additional amount of halibut PSC is necessary for that sector to continue its directed fishing operations.

Table 16—Final 2023 and 2024 Apportionments of the “Other Hook-and-Line Fishery” Annual Halibut Prohibited Species Catch Allowance Between the Hook-and-Line Gear Catcher Vessel and Catcher/Processor Sectors
[Values are in metric tons]
“Other than DSR” allowance | Hook-and-line sector | Sector annual amount | Season | Seasonal percentage | Sector seasonal amount
257 | Catcher Vessel | 150 | January 1-June 10 | 86 | 129
|  |  | June 10-September 1 | 2 | 3
|  |  | September 1-December 31 | 12 | 18
| Catcher/Processor | 107 | January 1-June 10 | 86 | 92
|  |  | June 10-September 1 | 2 | 2
|  |  | September 1-December 31 | 12 | 13

Estimates of Halibut Biomass and Stock Condition

The IPHC annually assesses the abundance and potential yield of the Pacific halibut stock using all available data from the commercial and sport fisheries, other removals, and scientific surveys. Additional information on the Pacific halibut stock assessment may be found in the IPHC's 2022 Pacific halibut stock assessment (December 2022), available on the IPHC website at https://www.iphc.int. The IPHC considered the 2022 Pacific halibut stock assessment at its January 2023 annual meeting when it set the 2023 commercial halibut fishery catch limits.

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observed estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual GOA stock assessment process. The DMR methodology and findings are included as an appendix to the annual GOA groundfish SAFE report.

In 2016, the DMR estimation methodology underwent revisions per the Council's directive. An interagency halibut working group (IPHC, Council, and NMFS staff) developed improved estimation methods that have undergone review by the GOA Plan Team, SSC, and the Council. A summary of the revised methodology is contained in the GOA proposed 2017 and 2018 harvest specifications (81 FR 87881, December 6, 2016), and the comprehensive discussion of the working group's statistical methodology is available from the Council (see ADDRESSES). The DMR working group's revised methodology is intended to improve estimation accuracy, transparency, and transferability in the methodology used for calculating DMRs. The working group will continue to consider improvements to the methodology used to calculate halibut mortality, including potential changes to the reference period (the period of data used for calculating the DMRs). The new methodology continues to ensure that NMFS is using DMRs that accurately reflect halibut mortality, which will inform the sectors of their estimated halibut mortality and allow sectors to respond with methods that could reduce mortality and, eventually, the DMR for that sector.

At the December 2022 meeting, the SSC, AP, and the Council concurred with the revised DMR estimation methodology, and NMFS adopts for 2023 and 2024 the DMRs calculated under the revised methodology, which uses an updated 2-year reference period. The final 2023 and 2024 DMRs in this rule are unchanged from the DMRs in the proposed 2023 and 2024 harvest specifications (87 FR 74102, December 2, 2022). Table 17 lists these final 2023 and 2024 DMRs.

Table 17—Final 2023 and 2024 Halibut Discard Mortality Rates for Vessels Fishing in the Gulf of Alaska
[Values are percent of halibut assumed to be dead]
Gear | Sector | Groundfish fishery | Halibut discard mortality rate (percent)
Pelagic trawl | Catcher vessel | All | 100
| Catcher/processor | All | 100
Non-pelagic trawl | Catcher vessel | Rockfish Program | 55
| Catcher vessel | All others | 74
| Mothership and catcher/processor | All | 83
Hook-and-line | Catcher/processor | All | 13
| Catcher vessel | All | 9
Pot | Catcher vessel and catcher/processor | All | 27

Chinook Salmon Prohibited Species Catch Limits

Amendment 93 to the FMP (77 FR 42629, July 20, 2012) established separate Chinook salmon PSC limits in the Western and Central GOA in the directed pollock trawl fishery. NMFS is required to close the directed pollock fishery in the Western and Central Regulatory Areas of the GOA if the applicable Chinook salmon PSC limit in that regulatory area will be reached (§ 679.21(h)(8)). The annual Chinook salmon PSC limits in the directed pollock fishery of 6,684 salmon in the Western GOA and 18,316 salmon in the Central GOA are set at § 679.21(h)(2).

Amendment 97 to the FMP (79 FR 71350, December 2, 2014) established an initial annual PSC limit of 7,500 Chinook salmon for the trawl non-pollock groundfish fisheries in the Western and Central GOA. This limit is apportioned among the three sectors that conduct directed fishing for groundfish species other than pollock: 3,600 Chinook salmon to trawl CPs; 1,200 Chinook salmon to trawl CVs participating in the Rockfish Program; and 2,700 Chinook salmon to trawl CVs not participating in the Rockfish Program (§ 679.21(h)(4)). NMFS will monitor the Chinook salmon PSC in the trawl non-pollock groundfish fisheries and close an applicable sector if it will reach its Chinook salmon PSC limit.

The Chinook salmon PSC limit for two sectors, trawl CPs and trawl CVs not participating in the Rockfish Program, may be increased in subsequent years based on the performance of these two sectors and their ability to minimize their use of their respective Chinook salmon PSC limits during a calendar year. If either or both of these two sectors limited its use of Chinook salmon PSC to a specified threshold amount in 2022 (3,120 for trawl CPs and 2,340 for Non-Rockfish Program trawl CVs), that sector will receive an incremental increase to its 2023 Chinook salmon PSC limit (§ 679.21(h)(4)). In 2022, the trawl CP sector did not exceed 3,120 Chinook salmon PSC; therefore, the 2023 trawl CP sector Chinook salmon PSC limit will be 4,080 Chinook salmon. In 2022, the Non-Rockfish Program trawl CV sector did not exceed 2,340 Chinook salmon PSC; therefore, the 2023 Non-Rockfish Program trawl CV sector Chinook salmon PSC limit will be 3,060 Chinook salmon.

American Fisheries Act (AFA) Catcher/Processor and Catcher Vessel Groundfish Harvest Limits

Section 679.64 establishes groundfish harvesting and processing sideboard limitations on AFA CPs and CVs in the GOA. These sideboard limits are necessary to protect the interests of fishermen and processors who do not directly benefit from the AFA as compared to those fishermen and processors who receive exclusive harvesting and processing privileges under the AFA. Section 679.7(k)(1)(ii) prohibits listed AFA CPs and CPs designated on a listed AFA CP permit from harvesting any species of groundfish in the GOA. Additionally, § 679.7(k)(1)(iv) prohibits listed AFA CPs and CPs designated on a listed AFA CP permit from processing any pollock harvested in a directed pollock fishery in the GOA and any groundfish harvested in Statistical Area 630 of the GOA.

AFA CVs that are less than 125 feet (38.1 m) length overall, have annual landings of pollock in the Bering Sea and Aleutian Islands (BSAI) less than 5,100 mt, and have made at least 40 GOA groundfish landings from 1995 through 1997 are exempt from GOA CV groundfish sideboard limits under § 679.64(b)(2)(ii). Sideboard limits for non-exempt AFA CVs in the GOA are based on their traditional harvest levels of TAC in groundfish fisheries covered by the FMP. Section 679.64(b)(3)(iv) establishes the CV groundfish sideboard limitations in the GOA based on the aggregate retained catch of non-exempt AFA CVs of each sideboard species or species group from 1995 through 1997 divided by the sum of the TACs for that species or species group available to CVs over the same period. NMFS published a final rule (84 FR 2723, February 8, 2019) that implemented regulations to prohibit non-exempt AFA CVs from directed fishing for specific groundfish species or species groups subject to sideboard limits (§ 679.20(d)(1)(iv)(D) and Table 56 to 50 CFR part 679). Sideboard limits not subject to the final rule (84 FR 2723, February 8, 2019) continue to be calculated and included in the GOA annual harvest specifications.

Tables 18 and 19 list the final 2023 and 2024 groundfish sideboard limits for non-exempt AFA CVs. NMFS will deduct all targeted or incidental catch of sideboard species made by non-exempt AFA CVs from the sideboard limits listed in Tables 18 and 19.

Table 18—Final 2023 GOA Non-Exempt American Fisheries Act Catcher Vessel (CV) Groundfish Sideboard Limits
[Values are rounded to the nearest metric ton]
Species | Apportionments by season | Area | Ratio of 1995-1997 non-exempt AFA CV catch to 1995-1997 TAC | Final 2023 TACs ³ | Final 2023 non-exempt AFA CV sideboard limit
Pollock | A Season January 20-May 31 | Shumagin (610) | 0.6047 | 1,685 | 1,019
|  | Chirikof (620) | 0.1167 | 58,039 | 6,773
|  | Kodiak (630) | 0.2028 | 9,121 | 1,850
| B Season September 1-November 1 | Shumagin (610) | 0.6047 | 25,272 | 15,282
|  | Chirikof (620) | 0.1167 | 18,965 | 2,213
|  | Kodiak (630) | 0.2028 | 24,608 | 4,990
| Annual | WYK (640) | 0.3495 | 7,523 | 2,629
|  | SEO (650) | 0.3495 | 11,363 | 3,971
Pacific cod | A Season ¹ January 1-June 10 | W | 0.1331 | 3,331 | 443
|  | C | 0.0692 | 7,131 | 493
| B Season ² September 1-December 31 | W | 0.1331 | 1,894 | 252
|  | C | 0.0692 | 3,991 | 276
Flatfish, shallow-water | Annual | W | 0.0156 | 13,250 | 207
|  | C | 0.0587 | 26,769 | 1,571
Flatfish, deep-water | Annual | C | 0.0647 | 2,105 | 136
|  | E | 0.0128 | 3,455 | 44
Rex sole | Annual | C | 0.0384 | 13,110 | 503
Arrowtooth flounder | Annual | C | 0.0280 | 65,000 | 1,820
Flathead sole | Annual | C | 0.0213 | 21,487 | 458
Pacific ocean Perch | Annual | C | 0.0748 | 29,940 | 2,240
|  | E | 0.0466 | 4,724 | 220
Northern rockfish | Annual | C | 0.0277 | 2,350 | 65
¹ The Pacific cod A season for trawl gear does not open until January 20.
² The Pacific cod B season for trawl gear closes November 1.
³ The Western and Central GOA and WYK District area apportionments of pollock are considered ACLs.

Table 19—Final 2024 GOA Non-Exempt American Fisheries Act Catcher Vessel (CV) Groundfish Sideboard Limits
[Values are rounded to the nearest metric ton]
Species | Apportionments by season | Area | Ratio of 1995-1997 non-exempt AFA CV catch to 1995-1997 TAC | Final 2024 TACs ³ | Final 2024 non-exempt AFA CV sideboard limit
Pollock | A Season January 20-May 31 | Shumagin (610) | 0.6047 | 1,823 | 1,102
|  | Chirikof (620) | 0.1167 | 62,771 | 7,325
|  | Kodiak (630) | 0.2028 | 9,864 | 2,000
| B Season September 1-November 1 | Shumagin (610) | 0.6047 | 27,333 | 16,528
|  | Chirikof (620) | 0.1167 | 20,511 | 2,394
|  | Kodiak (630) | 0.2028 | 26,614 | 5,397
| Annual | WYK (640) | 0.3495 | 8,136 | 2,844
|  | SEO (650) | 0.3495 | 11,363 | 3,971
Pacific cod | A Season ¹ January 1-June 10 | W | 0.1331 | 3,067 | 408
|  | C | 0.0692 | 6,566 | 454
| B Season ² September 1-December 31 | W | 0.1331 | 1,744 | 232
|  | C | 0.0692 | 3,675 | 254
Flatfish, shallow-water | Annual | W | 0.0156 | 13,250 | 207
|  | C | 0.0587 | 27,737 | 1,628
Flatfish, deep-water | Annual | C | 0.0647 | 2,068 | 134
|  | E | 0.0128 | 3,396 | 43
Rex sole | Annual | C | 0.0384 | 13,425 | 516
Arrowtooth flounder | Annual | C | 0.0280 | 64,200 | 1,798
Flathead sole | Annual | C | 0.0213 | 21,892 | 466
Pacific ocean perch | Annual | C | 0.0748 | 29,138 | 2,180
|  | E | 0.0466 | 4,597 | 214
Northern rockfish | Annual | C | 0.0277 | 2,244 | 62
¹ The Pacific cod A season for trawl gear does not open until January 20.
² The Pacific cod B season for trawl gear closes November 1.
³ The Western and Central GOA and WYK District area apportionments of pollock are considered ACLs.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)(ii)). Table 20 lists the final 2023 and 2024 non-exempt AFA CV halibut PSC sideboard limits for vessels using trawl gear in the GOA.

Table 20—Final 2023 and 2024 Non-Exempt AFA CV Halibut Prohibited Species Catch (PSC) Sideboard Limits for Vessels Using Trawl Gear in the GOA
[Values are rounded to nearest metric ton]
Season | Season dates | Target fishery | Ratio of 1995-1997 non-exempt AFA CV retained catch to total retained catch | 2023 and 2024 halibut PSC limit | 2023 and 2024 non-exempt AFA CV halibut PSC limit
1 | January 20-April 1 | shallow-water | 0.340 | 384 | 131
|  | deep-water | 0.070 | 135 | 9
2 | April 1-July 1 | shallow-water | 0.340 | 85 | 29
|  | deep-water | 0.070 | 256 | 18
3 | July 1-August 1 | shallow-water | 0.340 | 121 | 41
|  | deep-water | 0.070 | 341 | 24
4 | August 1-October 1 | shallow-water | 0.340 | 53 | 18
|  | deep-water | 0.070 | 75 | 5
5 | October 1-December 31 | all targets | 0.205 | 256 | 52
Annual | Total shallow-water |  |  |
| Total deep-water |  |  | 56
| Total, all season and categories |  | 1,705 | 328

Non-AFA Crab Vessel Groundfish Harvest Limitations

Section 680.22 establishes groundfish catch limits for vessels with a history of participation in the Bering Sea snow crab fishery to prevent these vessels from using the increased flexibility provided by the Crab Rationalization (CR) Program to expand their level of participation in the GOA groundfish fisheries. Sideboard limits restrict these vessels' catch to their collective historical landings in each GOA groundfish fishery (except the fixed-gear sablefish fishery). Sideboard limits also apply to catch made using an LLP license derived from the history of a restricted vessel, even if that LLP license is used on another vessel.

The basis for these sideboard limits is described in detail in the final rules implementing the major provisions of the CR Program, including Amendments 18 and 19 to the Fishery Management Plan for Bering Sea/Aleutian Islands King and Tanner Crabs (Crab FMP) (70 FR 10174, March 2, 2005), Amendment 34 to the Crab FMP (76 FR 35772, June 20, 2011), Amendment 83 to the GOA FMP (76 FR 74670, December 1, 2011), and Amendment 45 to the Crab FMP (80 FR 28539, May 19, 2015).

NMFS published a final rule (84 FR 2723, February 8, 2019) that implemented regulations to prohibit non-AFA crab vessels from directed fishing for all groundfish species or species groups subject to sideboard limits, except for Pacific cod apportioned to CVs using pot gear in the Western and Central Regulatory Areas (§ 680.22(e)(1)(iii)). Accordingly, the GOA annual harvest specifications will include the non-AFA crab vessel groundfish sideboard limits for only Pacific cod apportioned to CVs using pot gear in the Western and Central Regulatory Areas.

Tables 21 and 22 list the final 2023 and 2024 groundfish sideboard limitations for non-AFA crab vessels. All targeted or incidental catch of sideboard species made by non-AFA crab vessels or associated LLP licenses will be deducted from these sideboard limits.

Table 21—Final 2023 GOA Non-American Fisheries Act Crab Vessel Groundfish Sideboard Limits
[Values are rounded to the nearest metric ton]
Species | Season | Area/gear | Ratio of 1996-2000 non-AFA crab vessel catch to 1996-2000 total harvest | Final 2023 TACs | Final 2023 non-AFA crab vessel sideboard limit
Pacific cod | A Season January 1-June 10 | Western Pot CV | 0.0997 | 3,331 | 332
|  | Central Pot CV | 0.0474 | 7,131 | 338
| B Season September 1-December 31 | Western Pot CV | 0.0997 | 1,894 | 189
|  | Central Pot CV | 0.0474 | 3,991 | 189

Table 22—Final 2024 GOA Non-American Fisheries Act Crab Vessel Groundfish Sideboard Limits
[Values are rounded to the nearest metric ton]
Species | Season | Area/gear | Ratio of 1996-2000 non-AFA crab vessel catch to 1996-2000 total harvest | Final 2024 TACs | Final 2024 non-AFA crab vessel sideboard limit
Pacific cod | A Season January 1-June 10 | Western Pot CV | 0.0997 | 3,067 | 306
|  | Central Pot CV | 0.0474 | 6,566 | 311
| B Season September 1-December 31 | Western Pot CV | 0.0997 | 1,744 | 174
|  | Central Pot CV | 0.0474 | 3,675 | 174

Rockfish Program Groundfish Sideboard and Halibut PSC Limitations

The Rockfish Program establishes three classes of sideboard provisions: CV groundfish sideboard restrictions, CP rockfish sideboard restrictions, and CP opt-out vessel sideboard restrictions (§ 679.82(c)(1)). These sideboards are intended to limit the ability of rockfish harvesters to expand into other GOA groundfish fisheries.

CVs participating in the Rockfish Program may not participate in directed fishing for dusky rockfish, Pacific ocean perch, and northern rockfish in the West Yakutat District and Western GOA from July 1 through July 31. Also, CVs may not participate in directed fishing for arrowtooth flounder, deep-water flatfish, and rex sole in the GOA from July 1 through July 31 (§ 679.82(d)).

CPs participating in Rockfish Program cooperatives are restricted by rockfish and halibut PSC sideboard limits. These CPs are prohibited from directed fishing for dusky rockfish, Pacific ocean perch, and northern rockfish in the West Yakutat District and Western GOA from July 1 through July 31 (§ 679.82(e)(2)). Prior to 2021, CPs participating in Rockfish Program cooperatives were restricted by rockfish sideboard limits in the Western GOA. A final rule that implemented Amendment 111 to the FMP (86 FR 11895, March 1, 2021) removed from regulation the Western GOA rockfish sideboard limits for Rockfish Program CPs. That rule also revised and clarified the establishment of the West Yakutat District rockfish sideboard ratios in regulation. The rockfish sideboard ratio for each rockfish fishery in the West Yakutat District is an established percentage of the TAC for catcher/processors in the directed fishery for dusky rockfish and Pacific ocean perch (§ 679.82(e)(4)). These percentages are confidential.

Holders of CP-designated LLP licenses that opt out of participating in a Rockfish Program cooperative will be able to access that portion of each rockfish sideboard limit that is not assigned to rockfish cooperatives (§ 679.82(e)(7)).

Under the Rockfish Program, the CP sector is subject to halibut PSC sideboard limits for the trawl deep-water and shallow-water species fisheries (§ 679.82(e)(3) and (5)). Halibut PSC sideboard ratios by fishery are set forth in § 679.82(e)(5). The CP sector halibut PSC sideboard limits are in effective from July 1 through July 31 (§ 679.82(e)(6)). No halibut PSC sideboard limits apply to the CV sector, as CVs participating in cooperatives receive a portion of the annual halibut PSC limit. CPs that opt out of the Rockfish Program are able to access that portion of the deep-water and shallow-water species fishery halibut PSC sideboard limit not assigned to CP rockfish cooperatives. The sideboard provisions for CPs that elect to opt out of participating in a rockfish cooperative are described in § 679.82(c), (e), and (f). Sideboard limits are linked to the catch history of specific vessels, however, some of these vessels may choose to opt out of the Rockfish Program. After March 1, NMFS will determine which CPs have opted-out of the Rockfish Program in 2023, and NMFS will know the ratios and amounts used to calculate opt-out sideboard ratios. NMFS will then calculate any applicable opt-out sideboards for 2023 and post these limits on the Alaska Region website at https://www.fisheries.noaa.gov/alaska/sustainable-fisheries/alaska-fisheries-management-reports#central-goa-rockfish. Table 23 lists the final 2023 and 2024 Rockfish Program halibut PSC sideboard limits for the CP sector.

Table 23—Final 2023 and 2024 Rockfish Program Halibut PSC Sideboard Limits for the Catcher/Processor Sector
[Values are rounded to the nearest metric ton]
Sector | Shallow-water species fishery halibut PSC sideboard ratio (percent) | Deep-water species fishery halibut PSC sideboard ratio (percent) | 2023 and 2024 halibut mortality limit (mt) | Annual shallow-water species fishery halibut PSC sideboard limit (mt) | Annual deep-water species fishery halibut PSC sideboard limit (mt)
Catcher/processor | 0.10 | 2.50 | 1,705 | 2 | 43

Amendment 80 Program Groundfish and PSC Sideboard Limits

Amendment 80 to the Fishery Management Plan for Groundfish of the Bering Sea and Aleutian Islands Management Area (Amendment 80 Program) established a limited access privilege program for the non-AFA trawl CP sector. The Amendment 80 Program established groundfish and halibut PSC catch limits for Amendment 80 Program participants to limit the ability of participants eligible for the Amendment 80 Program to expand their harvest efforts in the GOA.

Section 679.92 establishes groundfish harvesting sideboard limits on all Amendment 80 program vessels, other than the fishing vessel (F/V) Golden Fleece, to amounts no greater than the limits listed in Table 37 to 50 CFR part 679. Under § 679.92(d), the F/V Golden Fleece is prohibited from directed fishing for pollock, Pacific cod, Pacific ocean perch, dusky rockfish, and northern rockfish in the GOA.

Groundfish sideboard limits for Amendment 80 Program vessels operating in the GOA are based on their average aggregate harvests from 1998 through 2004 (72 FR 52668, September 14, 2007). Tables 24 and 25 list the final 2023 and 2024 groundfish sideboard limits for Amendment 80 Program vessels. NMFS will deduct all targeted or incidental catch of sideboard species made by Amendment 80 Program vessels from the sideboard limits in Tables 24 and 25.

Table 24—Final 2023 GOA Groundfish Sideboard Limits for Amendment 80 Program Vessels
[Values are rounded to nearest metric ton]
Species | Apportionments and allocations by season | Area | Ratio of amendment 80 sector vessels 1998-2004 catch to TAC | 2023 TAC (mt) | 2023 Amendment 80 vessel sideboard limit (mt)
Pollock | A Season January 20-May 31 | Shumagin (610) | 0.003 | 1,685 | 5
|  | Chirikof (620) | 0.002 | 58,039 | 116
|  | Kodiak (630) | 0.002 | 9,121 | 18
| B Season September 1-November 1 | Shumagin (610) | 0.003 | 25,272 | 76
|  | Chirikof (620) | 0.002 | 18,965 | 38
|  | Kodiak (630) | 0.002 | 24,608 | 49
| Annual | WYK (640) | 0.002 | 7,523 | 15
Pacific cod | A Season ¹ January 1-June 10 | W | 0.020 | 3,331 | 67
|  | C | 0.044 | 7,131 | 314
| B Season ² September 1-December 31 | W | 0.020 | 1,894 | 38
|  | C | 0.044 | 3,991 | 176
| Annual | WYK | 0.034 | 1,755 | 60
Pacific ocean perch | Annual | W | 0.994 | 2,529 | 2,514
|  | WYK | 0.961 | 1,370 | 1,317
Northern rockfish | Annual | W | 1.000 | 2,614 | 2,614
Dusky rockfish | Annual | W | 0.764 | 149 | 114
|  | WYK | 0.896 | 90 | 81
¹ The Pacific cod A season for trawl gear does not open until January 20.
² The Pacific cod B season for trawl gear closes November 1.

Table 25—Final 2024 GOA Groundfish Sideboard Limits for Amendment 80 Program Vessels
[Values are rounded to nearest metric ton]
Species | Apportionments and allocations by season | Area | Ratio of amendment 80 sector vessels 1998-2004 catch to TAC | 2024 TAC (mt) | 2024 Amendment 80 vessel sideboard limit (mt)
Pollock | A Season January 20-May 31 | Shumagin (610) | 0.003 | 1,823 | 5
|  | Chirikof (620) | 0.002 | 62,771 | 126
|  | Kodiak (630) | 0.002 | 9,864 | 20
| B Season September 1-November 1 | Shumagin (610) | 0.003 | 27,333 | 82
|  | Chirikof (620) | 0.002 | 20,511 | 41
|  | Kodiak (630) | 0.002 | 26,614 | 53
| Annual | WYK (640) | 0.002 | 8,136 | 16
Pacific cod | A Season ¹ January 1-June 10 | W | 0.020 | 3,067 | 61
|  | C | 0.044 | 6,566 | 289
| B Season ² September 1-December 31 | W | 0.020 | 1,744 | 35
|  | C | 0.044 | 3,675 | 162
| Annual | WYK | 0.034 | 1,616 | 55
Pacific ocean perch | Annual | W | 0.994 | 2,461 | 2,446
|  | WYK | 0.961 | 1,333 | 1,281
Northern rockfish | Annual | W | 1.000 | 2,497 | 2,497
Dusky rockfish | Annual | W | 0.764 | 141 | 108
|  | WYK | 0.896 | 85 | 76
¹ The Pacific cod A season for trawl gear does not open until January 20.
² The Pacific cod B season for trawl gear closes November 1.

The halibut PSC sideboard limits for Amendment 80 Program vessels in the GOA are based on the historic use of halibut PSC by Amendment 80 Program vessels in each PSC target category from 1998 through 2004. These values are slightly lower than the average historic use to accommodate two factors: allocation of halibut PSC cooperative quota under the Rockfish Program and the exemption of the F/V Golden Fleece from this restriction (§ 679.92(b)(2)). Table 26 lists the final 2023 and 2024 halibut PSC sideboard limits for Amendment 80 Program vessels. These tables incorporate the maximum percentages of the halibut PSC sideboard limits that may be used by Amendment 80 Program vessels as contained in Table 38 to 50 CFR part 679. Any residual amount of a seasonal Amendment 80 halibut PSC sideboard limit may carry forward to the next season limit (§ 679.92(b)(2)).

Table 26—Final 2023 and 2024 Halibut PSC Sideboard Limits for Amendment 80 Program Vessels in the GOA
[Values are rounded to nearest metric ton]
Season | Season dates | Target fishery | Historic amendment 80 use of the annual halibut PSC limit catch (ratio) | 2023 and 2024 Annual halibut PSC limit (mt) | 2023 and 2024 Amendment 80 vessel halibut PSC limit
1 | January 20-April 1 | shallow-water | 0.0048 | 1,705 | 8
|  | deep-water | 0.0115 | 1,705 | 20
2 | April 1-July 1 | shallow-water | 0.0189 | 1,705 | 32
|  | deep-water | 0.1072 | 1,705 | 183
3 | July 1-August 1 | shallow-water | 0.0146 | 1,705 | 25
|  | deep-water | 0.0521 | 1,705 | 89
4 | August 1-October 1 | shallow-water | 0.0074 | 1,705 | 13
|  | deep-water | 0.0014 | 1,705 | 2
5 | October 1-December 31 | shallow-water | 0.0227 | 1,705 | 39
|  | deep-water | 0.0371 | 1,705 | 63
Total |  |  |  |  | 474

Directed Fishing Closures

Pursuant to § 679.20(d)(1)(i), if the Regional Administrator determines (1) that any allocation or apportionment of a target species or species group allocated or apportioned to a fishery will be reached; or (2) with respect to pollock and Pacific cod, that an allocation or apportionment to an inshore or offshore component or sector allocation will be reached, then the Regional Administrator may establish a directed fishing allowance (DFA) for that species or species group. If the Regional Administrator establishes a DFA and that allowance is or will be reached before the end of the fishing season or year, NMFS will prohibit directed fishing for that species or species group in the specified GOA subarea, regulatory area, or district (§ 679.20(d)(1)(iii)).

The Regional Administrator has determined that the TACs for the species listed in Table 27 are necessary to account for the incidental catch of these species in other anticipated groundfish fisheries for the 2023 and 2024 fishing years.

Table 27—2023 and 2024 Directed Fishing Closures in the GOA
[Amounts for incidental catch in other directed fisheries are in metric tons]
Target | Area/component/gear | Incidental catch amount and year (if amounts differ by year)
Pollock | all/offshore | not applicable.¹
Sablefish ² | all/trawl | 3,320 (2023). 3,072 (2024).
Pacific cod | Western, CV, HAL | 71 (2023), 66 (2024).
| Western, CP, trawl | 122 (2023, 113 (2024).
| Central, CP, trawl | 462 (2023), 426 (2024).
Shortraker rockfish ² | all | 705
Rougheye/blackspotted rockfish ² | all | 775 (2023) 772 (2024).
Thornyhead rockfish ² | all | 1,628.
Other rockfish | all | 1,610.
Atka mackerel | all | 3,000.
Big skate | all | 2,867.
Longnose skate | all | 2,712.
Other skates | all | 984.
Sharks | all | 4,891.
Octopuses | all | 980.
¹ Pollock is closed to directed fishing in the GOA by the offshore component under § 679.20(a)(6)(i).
² Closures are not applicable to participants in cooperatives conducted under the Central GOA Rockfish Program because cooperatives are prohibited from exceeding their allocations (§ 679.7(n)(6)(viii)).

Consequently, in accordance with § 679.20(d)(1)(i), the Regional Administrator establishes the DFA for the species or species groups listed in Table 27 as zero mt. Therefore, in accordance with § 679.20(d)(1)(iii), NMFS is prohibiting directed fishing for those species, areas, gear types, and components in the GOA listed in Table 27 effective at 1200 hours, A.l.t., March 2, 2023, through 2400 hours, A.l.t., December 31, 2024.

Closures implemented under the 2022 and 2023 GOA harvest specifications for groundfish (87 FR 11599, March 2, 2022) remain effective under authority of these final 2023 and 2024 harvest specifications and until the date specified in those closure notifications. Closures are posted at the following website under the Alaska filter for Management Areas: https://www.fisheries.noaa.gov/rules-and-announcements/bulletins.

While these closures are in effect, the maximum retainable amounts at § 679.20(e) and (f) apply at any time during a fishing trip. These closures to directed fishing are in addition to closures and prohibitions found at 50 CFR part 679. NMFS may implement other closures during the 2023 and 2024 fishing years as necessary for effective conservation and management.

Comments and Responses

NMFS did not receive any comments during the public comment period for the proposed groundfish harvest specifications.

Classification

NMFS is issuing this final rule pursuant to section 305(d) of the Magnuson-Stevens Act. Through previous actions, the FMP and regulations are designed to authorize NMFS to take this action. See 50 CFR part 679. The NMFS Assistant Administrator has determined that the final harvest specifications are consistent with the FMP and with the Magnuson-Stevens Act and other applicable laws.

This final rule is exempt from review under Executive Order 12866 because it only implements annual catch limits in the GOA.

NMFS prepared an EIS for the Alaska groundfish harvest specifications and alternative harvest strategies (see ADDRESSES) and made it available to the public on January 12, 2007 (72 FR 1512). On February 13, 2007, NMFS issued the ROD for the EIS. In January-February 2023, NMFS prepared a SIR for this action to provide a subsequent assessment of the action and to address the need to prepare a Supplemental EIS (SEIS; 40 CFR 1501.11(b); § 1502.9(d)(1)). Copies of the EIS, ROD, and annual SIRs for this action are available from NMFS (see ADDRESSES). The Final EIS analyzes the environmental, social, and economic consequences of the groundfish harvest specifications and alternative harvest strategies on resources in the action area. Based on the analysis in the Final EIS, NMFS concluded that the preferred Alternative (Alternative 2) provides the best balance among relevant environmental, social, and economic considerations and allows for continued management of the groundfish fisheries based on the most recent, best scientific information. The preferred alternative is a harvest strategy in which TACs are set at a level within the range of ABCs recommended by the Council's SSC; the sum of the TACs must achieve the OY specified in the FMP. While the specific numbers that the harvest strategy produces may vary from year to year, the methodology used for the preferred harvest strategy remains constant.

The annual SIR evaluates the need to prepare a SEIS for the 2023 and 2024 groundfish harvest specifications. An SEIS must be prepared if (1) the agency makes substantial changes in the proposed action that are relevant to environmental concerns; or (2) significant new circumstances or information exist relevant to environmental concerns and bearing on the proposed action or its impacts (40 CFR 1502.9(d)(1)). After reviewing the information contained in the SIR and SAFE report, the Regional Administrator has determined that (1) approval of the 2023 and 2024 harvest specifications, which were set according to the preferred harvest strategy in the EIS, does not constitute a substantial change in the action; and (2) there are no significant new circumstances or information relevant to environmental concerns and bearing on the action or its impacts. The 2023 and 2024 harvest specifications will result in environmental, social, and economic impacts within the scope of those analyzed and disclosed in the EIS. Therefore, a SEIS is not necessary to implement the 2023 and 2024 harvest specifications.

Section 604 of the Regulatory Flexibility Act (RFA) (5 U.S.C. 604) requires that, when an agency promulgates a final rule under 5 U.S.C. 553, after being required by that section or any other law, to publish a general notice of proposed rulemaking, the agency shall prepare a final regulatory flexibility analysis (FRFA). The following constitutes the FRFA prepared for these final 2023 and 2024 harvest specifications.

Section 604 of the RFA describes the required contents of a FRFA: (1) a statement of the need for, and objectives of, the rule; (2) a statement of the significant issues raised by the public comments in response to the initial regulatory flexibility analysis (IRFA), a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency that affect the impact on small entities was rejected.

A description of this action, its purpose, and its legal basis are contained at the beginning of the preamble to this final rule and are not repeated here.

NMFS published the proposed rule on December 2, 2022 (87 FR 74102). NMFS prepared an IRFA to accompany the proposed action, and included the IRFA in the proposed rule. The comment period closed on January 3, 2023. No comments were received on the IRFA or on the economic impacts of the rule more generally. The Chief Counsel for Advocacy of the Small Business Administration did not file any comments on the proposed rule.

The entities directly regulated by this action are: (1) entities operating vessels with groundfish Federal fishing permits (FFPs) catching FMP groundfish in Federal waters; (2) all entities operating vessels, regardless of whether they hold groundfish FFPs, catching FMP groundfish in the State-waters parallel fisheries; and (3) all entities operating vessels fishing for halibut inside 3 miles (5.6 km) of the shore (whether or not they have FFPs).

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual gross receipts not in excess of $11 million for all its affiliated operations worldwide.

Using the most recent data available (2021), the estimated number of directly regulated small entities includes approximately 671 individual catcher vessel and CP entities with gross revenues meeting the small entity criteria. This includes an estimated 668 small CV entities and 3 small CP entities in the GOA groundfish sector. The determination of entity size is based on vessel revenues and affiliated group revenues. This determination also includes an assessment of fisheries cooperative affiliations, although actual vessel ownership affiliations have not been completely established. However, the estimate of these 671 CVs and CPs may be an overstatement of the number of small entities because of the complexity of analyzing the linkages and affiliations across these vessels, particularly since many of them conduct operations in Federal and State fisheries. The CVs had average gross revenues that varied by gear type. Average gross revenues for hook-and-line CVs, pot gear CVs, and trawl gear CVs are estimated to be $390,000, $720,000, and $1.96 million, respectively. Average gross revenues for CP entities are confidential.

This final rule contains no information collection requirements under the Paperwork Reduction Act of 1995.

This action implements the final 2023 and 2024 harvest specifications, apportionments, and halibut PSC limits for the groundfish fishery of the GOA. This action is necessary to establish harvest limits for groundfish during the 2023 and 2024 fishing years and is taken in accordance with the FMP prepared by the Council pursuant to the Magnuson-Stevens Act. The establishment of the final harvest specifications is governed by the Council's harvest strategy for the catch of groundfish in the GOA. The harvest strategy was selected previously from among five alternatives, with the preferred alternative harvest strategy being one in which the TACs fall within the range of ABCs recommended by the SSC. Under this preferred alternative harvest strategy, TACs are set within the range of ABCs recommended by the SSC; the sum of the TACs must achieve the OY specified in the FMP; and while the specific TAC numbers that the harvest strategy produces may vary from year to year, the methodology used for the preferred harvest strategy remains constant. This final action implements the preferred alternative harvest strategy previously chosen by the Council to set TACs that fall within the range of ABCs recommended through the Council harvest specifications process and as recommended by the Council. This is the method for determining TACs that has been used in the past.

The final 2023 and 2024 TACs associated with preferred harvest strategy are those recommended by the Council in December 2022. OFLs and ABCs for the species were based on recommendations prepared by the Council's Plan Team, and reviewed by the Council's SSC. The Council based its TAC recommendations on those of its AP, which were consistent with the SSC's OFL and ABC recommendations. The sum of all TACs remains within the OY for the GOA consistent with § 679.20(a)(1)(i)(B).

The final 2023 and 2024 OFLs and ABCs are based on the best available biological information, including projected biomass trends, information on assumed distribution of stock biomass, and revised technical methods to calculate stock biomass. The final 2023 and 2024 TACs are based on the best available biological and socioeconomic information. The final 2023 and 2024 OFLs, ABCs, and TACs are consistent with the biological condition of groundfish stocks as described in the 2022 SAFE report, which is the most recent, completed SAFE report. Accounting for the most recent biological information to set the final OFLs, ABCs, and TACs is consistent with the objectives for this action, as well as National Standard 2 of the Magnuson-Stevens Act (16 U.S.C. 1851(a)(2)) that actions shall be based on the best scientific information available.

Under this action, the final ABCs reflect harvest amounts that are less than the specified overfishing levels. The final TACs are within the range of final ABCs recommended by the SSC and do not exceed the biological limits recommended by the SSC (the ABCs and overfishing levels). For most species and species groups in the GOA, the Council recommended, and NMFS sets, final TACs equal to final ABCs, which is intended to maximize harvest opportunities in the GOA, unless other conservation or management reasons support setting TAC amounts less than the ABCs.

For the following species and species groups, the Council recommended, and NMFS sets, TACs that are less than the ABCs: for pollock for the combined Western and Central GOA and West Yakutat District area; Pacific cod; shallow-water flatfish in the Western GOA; arrowtooth flounder in the Western GOA and the SEO District; flathead sole in the Western GOA, Atka mackerel; and “other rockfish” in the SEO District. These specific reductions were reviewed and recommended by the Council's AP, and the Council in turn adopted the AP's recommendations for the final 2023 and 2024 TACs.

Increasing TACs for some species may not result in increased harvest opportunities for those species. This is due to a variety of reasons. There may be a lack of commercial or market interest in some species. Additionally, there are fixed, and therefore constraining, PSC limits associated with the harvest of the GOA groundfish species that can lead to an underharvest of flatfish TACs. For this reason, the shallow-water flatfish, arrowtooth flounder, and flathead sole TACs are set to allow for increased harvest opportunities for these target species while conserving the halibut PSC limit for use in other fisheries. Similarly, the SEO District arrowtooth flounder TAC is set lower than ABC to conserve halibut PSC limit for use in other fisheries or because there is limited commercial interest in this fishery. The Atka mackerel TAC is set to accommodate incidental catch amounts in other fisheries. The “other rockfish” TAC in the SEO District is set to reduce the amount of discards of the species in that complex. Finally, the TACs for two species (pollock and Pacific cod) cannot be set equal to ABC, as the TAC must be reduced to account for the State's GHLs in these fisheries. The W/C/WYK Regulatory Area pollock TAC and the GOA Pacific cod TACs are therefore set to account for the State's GHLs for the State waters pollock and Pacific cod fisheries so that the ABCs are not exceeded.

Based upon the best available scientific data, and in consideration of the Council's objectives of this action, there are no significant alternatives to the final rule that have the potential to accomplish the stated objectives of the Magnuson-Stevens Act and any other applicable statutes and that have the potential to minimize any significant adverse economic impact of the final rule on small entities. This action is economically beneficial to entities operating in the GOA, including small entities. The action specifies TACs for commercially valuable species in the GOA and allows for the continued prosecution of the fishery, thereby creating the opportunity for fishery revenue. After public process, during which the Council solicited input from stakeholders, the Council concluded that these final harvest specifications would best accomplish the stated objectives articulated in the preamble for this final rule and in applicable statutes and would minimize to the extent practicable adverse economic impacts on the universe of directly regulated small entities.

Adverse impacts on marine mammals, or endangered or threatened species, resulting from fishing activities conducted under this rule are discussed in the Final EIS and its accompanying annual SIRs (see ADDRESSES).

Pursuant to 5 U.S.C. 553(d)(3), the Assistant Administrator for Fisheries, NOAA, finds good cause to waive the 30-day delay in the date of effectiveness for this rule because delaying this rule is contrary to the public interest. The Plan Team review of the 2022 SAFE report occurred in November 2022, and, based on the 2022 SAFE report, the Council considered and recommended the final harvest specifications in December 2022. Accordingly, NMFS's review of the final 2023 and 2024 harvest specifications could not begin until after the December 2022 Council meeting, and after the public had time to comment on the proposed action.

For all fisheries not currently closed because the TACs established under the final 2022 and 2023 harvest specifications (87 FR 11599, March 2, 2022) have not yet been reached, it is possible that they would be closed prior to the expiration of a 30-day delayed effectiveness period, because those fisheries have nearly reached those previously set TACs. Some affected fisheries therefore could close soon, as they are already close to reaching their TACs, and such closures would cause unnecessary economic harm to the fisheries in the cases where this final rule increases some of the groundfish TACs. If implemented immediately, this final rule would allow these fisheries to continue fishing, because some of the new TACs implemented by this rule are higher than the TACs under which they are currently fishing.

In addition, immediate effectiveness of this action is required to provide consistent management and conservation of fishery resources based on the best available scientific information. This is particularly pertinent for those species that have lower 2023 ABCs and TACs than those established in the 2022 and 2023 harvest specifications (87 FR 11599, March 2, 2022), including target species such as Pacific cod. If implemented immediately, this rule would ensure that NMFS can properly manage those fisheries for which this rule sets lower 2023 ABCs and TACs, which are based on the most recent biological information on the condition of stocks. The changes between the proposed 2023 ABCs and TACs are discussed earlier in the Changes from the Proposed 2023 and 2024 Harvest Specifications in the GOA section of this rule.

Certain fisheries, such as those for pollock, are intensive, fast-paced fisheries. Other fisheries, such as those for sablefish, flatfish, rockfish, Atka mackerel, skates, sharks, and octopuses, are critical either as directed fisheries or as incidental catch in other fisheries. Thus, for those species that have higher 2023 TACs than under the final 2022 and 2023 harvest specifications (87 FR 11599, March 2, 2022) than the TACs established by this final rule, there is some risk of exceeding these TAC limits. U.S. fishing vessels have demonstrated the capacity to catch the TAC allocations in many of these fisheries. If the date of effectiveness of this rule were to be delayed 30 days and a TAC was reached during those 30 days, NMFS would be required to close directed fishing or prohibit retention for the applicable species. Such closures and unnecessary discards would cause confusion to the industry and potential economic harm to fishermen, undermining the intent of this rule. Waiving the 30-day delay in the date of effectiveness allows NMFS to prevent this potential economic harm that could occur, should the previously set 2023 TACs (as set under the 2022 and 2023 harvest specifications) be reached during such a delay. In addition, determining which fisheries may close in advance is nearly impossible because these fisheries are affected by several factors, including fishing effort, weather, movement of fishery stocks and market price, which cannot be predicted. Furthermore, the closure of one fishery has a cascading effect on other fisheries; the closure would free up fishing vessels, allowing them to move from closed fisheries to open fisheries, thereby increasing the fishing capacity in those open fisheries, and potentially causing them to close sooner.

In fisheries subject to declining sideboard limits, a failure to implement the updated sideboard limits before the initial season's end could deny the intended economic protection to the non-sideboarded sectors. Conversely, in fisheries with increasing sideboard limits, economic benefit could be denied to the sideboard-limited sectors.

If the final harvest specifications are not effective by March 10, 2023, which is the start of the 2023 Pacific halibut season as specified by the IPHC, the fixed gear sablefish fishery will not begin concurrently with the Pacific halibut IFQ season. This would result in confusion for the industry and economic harm from unnecessary discard of sablefish that are caught along with Pacific halibut, as both fixed gear sablefish and Pacific halibut are managed under the same IFQ program. Immediate effectiveness of these final 2023 and 2024 harvest specifications will allow the sablefish IFQ fishery to begin concurrently with the Pacific halibut IFQ season.

Finally, immediate effectiveness also provides the fishing industry the earliest possible opportunity to plan and conduct its fishing operations with respect to new information about TACs. Therefore, in accordance with 5 U.S.C. 553(d)(3), NMFS finds good cause to waive the 30-day delay in the date of effectiveness for this rule.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The tables contained in this final rule are provided online and serve as the plain language guide to assist small entities in complying with this final rule as required by the Small Business Regulatory Enforcement Fairness Act of 1996. This final rule's primary purpose is to announce the final 2023 and 2024 harvest specifications and prohibited species bycatch allowances for the groundfish fisheries of the GOA. This action is necessary to establish harvest limits and associated management measures for groundfish during the 2023 and 2024 fishing years, and to accomplish the goals and objectives of the FMP. This action affects all fishermen who participate in the GOA fisheries. The specific OFL, ABC, TAC, and PSC amounts are provided in tables in this final rule to assist the reader. This final rule also contains plain language summaries of the underlying relevant regulations supporting the harvest specifications and the harvest of groundfish in the GOA that the reader may find helpful.

Information to assist small entities in complying with this final rule is provided online. The OFL, ABC, TAC, and PSC tables are individually available online at https://www.fisheries.noaa.gov/alaska/sustainable-fisheries/alaska-groundfish-harvest-specifications. Explanatory information on the relevant regulations supporting the harvest specifications is also found in footnotes to the tables. Harvest specification changes are also available from the same online source, which includes applicable Federal Register notices, information bulletins, and other supporting materials. NMFS will announce closures of directed fishing in the Federal Register and information bulletins released by the Alaska Region. Affected fishermen should keep themselves informed of such closures.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 109-241; Pub. L 109-479.

Dated: February 27, 2023.
Samuel D. Rauch, III,
Deputy Assistant Administrator for Regulatory Programs, National Marine Fisheries Service.

[FR Doc. 2023-04315 Filed 3-1-23; 8:45 am]

BILLING CODE 3510-22-P